DEPARTMENT OF LABOR

Employment and Training Administration

Workforce Investment Act: Revisions to the Workforce Investment Act Title I, Wagner Peyser Act and the Senior Community Service Employment Program Unified Planning Guidance; Notice

AGENCY: Employment and Training Administration, Department of Labor.

ACTION: Notice.

SUMMARY: The purpose of this notice is to provide interested parties with the revisions to portions of the “Workforce Investment Act: Final Unified Planning Guidance: Notice” related to title I of the Workforce Investment Act of 1998, the Wagner Peyser Act and the Senior Community Service Employment Program (SCSEP) under title V of the Older Americans Act, for use by States. The Department is anticipating the reauthorization of the Workforce Investment Act (WIA) within the next two years. Therefore, the Employment and Training Administration (ETA) is requiring revisions to the Unified Plan related to WIA and Wagner-Peyser only for the first two years of the five-year planning cycle. For SCSEP, States have the option of submitting a two year plan as well. “Options for programs funded by the U.S. Department of Education that are included in a State's Five-year Strategic Unified Plan also are discussed in this notice.”

The Unified Planning Guidance and Instructions provide a framework for the collaboration of Governors, Local Elected Officials, businesses and other partners to continue the development of workforce investment systems that address customer needs; deliver integrated, user-friendly services; and are accountable to the customers and the public.

FOR FURTHER INFORMATION CONTACT: Ms. Gay Gilbert, Administrator, Office of Workforce Investment, U.S. Department of Labor, 200 Constitution Avenue, NW., Room S4231, Washington, DC 20210. Telephone: (202) 693-3980 (voice) (This is not a toll free number) or (202) 693-7755 (TTY). Information may also be found at the Web site— http://www.doleta.gov/usworkforce.

DATES: The effective date of this document is April 12, 2005. Due date for Plan submission is May 31, 2005.

SUPPLEMENTARY INFORMATION: The Workforce Investment Act (WIA or Act), Pub. L. 105-220 (August 7, 1998) provides the framework for a reformed public workforce investment system designed to meet the needs of the nation's employers, job seekers and those who want to further their careers. This document updates the DOL provisions of the interagency planning guidelines for the State Unified Plans under sec. 501 of the Act, to provide guidance for states which choose to submit a Unified Plan to meet the WIA title I State Plan requirements for PY 2005 and 2006. Options for programs funded by the U.S. Department of Education that are included in a State's Five-year Strategic Unified Plan also are discussed in this notice.

In the context of the 21st century innovation economy, the public workforce investment system has a critical role to play at every level—local, State, and Federal—to ensure a skilled and competitive workforce. To effectively drive the economic growth of our communities and the nation and to provide the workers of this country with the right skills and opportunities for good jobs with good pay and career pathways, the public investments in workforce development need to be strategic. Strategies for investment need to embrace new methods of engagement with strategic partners as well as new service delivery paradigms that address the ever-changing economy and labor market. Innovation and technology are continuously changing the nature of work at an accelerated pace. Therefore, the strategic planning process for workforce investment must be dynamic, fluid, and future oriented.

The Workforce Investment Act (WIA) of 1998 created dramatic changes to the workforce system. With the overarching goal to streamline, consolidate, and integrate a wide array of employment and training programs, system changes spanned every facet of operation including governance, administration and funding, and service delivery. The vision is for an integrated workforce investment system better able to respond to the needs of its customers. The framework of the Workforce Investment Act embodies principles that remain critical to the strategic planning process in today's economy.

Since the passage of WIA, the workforce investment system broadly has made great strides in implementing the principles described above. However, there remains significant opportunity for States and local areas to utilize the framework of WIA to realize the vision these principles reflect. The changes in the WIA State Planning process reflected in this document are intended to facilitate a realization of that vision as well as to set the stage for the planning process in the context of the 21st century economy.

The Department of Labor sees as one of its primary roles providing leadership and guidance to support a system that meets the objectives of Title I of WIA, and in which State and local partners have flexibility to design systems and deliver services in a manner designed to achieve the goals for WIA based on their particular needs. In the context of the 21st century innovation economy, the workforce investment system has a critical role to play at every level—local, State, and Federal—to ensure a skilled and competitive workforce. To effectively drive the economic growth of our communities and the nation and to provide the workers of this country with the right skills and opportunities for good jobs with good pay and career pathways, the public investments in workforce development need to be strategic. Strategies for investment need to embrace new methods of engagement with strategic partners as well as new service delivery paradigms that address the ever-changing economy and labor market. Innovation and technology are continuously changing the nature of work at an accelerated pace. Therefore, the strategic planning process for workforce investment must be dynamic, fluid, and future oriented.

Signed at Washington, DC, this 5th day of April, 2005.
Emily Stover DeRocco,
Assistant Secretary of Labor, Employment and Training Administration.

Table of Contents

Part I. State Planning Instructions

A. Statement of Purpose

B. Background

C. Section 501 Programs and Activities

D. Submission of State Unified Plans

E. Federal Government Review and Approval of Unified Plan

F. How to Use “Attachment B”

G. Modifications to State Plan

H. Inquiries

Part II. National Strategic Direction

A. Vision and Goals related to WIA Title I and Wagner Peyser

B. Demand-driven Workforce Investment System

C. System Reform and Increased Focus on Training

D. Enhanced Integration through One-Stop Delivery System

E. New Vision for Serving Youth Most In Need

F. A Stronger Workforce Information System

G. Effective Utilization of Faith-based and Community Based Organizations

H. Increased Use of Flexibility Provisions in WIA

I. Performance Accountability and Implementation of Common Performance Measures

Part III. United Planning Instructions

A. State Vision and Priorities

B. One-Stop Delivery System

C. Plan Development and Implementation

D. Needs Assessment

E. State and Local Governance

F. Funding

G. Activities to Be Funded

H. Coordination and Non-Duplication

I. Special Populations and Other Groups

J. Professional Development and System Improvement

K. Performance Accountability

L. Data Collection

M. Corrective Action

N. Waiver and Work-Flex Requests

Part IV. Certifications and Assurances

Attachments

A. ETA Regional Administrators

B. Unified Plan Activities and Program Checklist

State Unified Plan Planning Guidance

A. Statement of Purpose

The purpose of this document is to provide guidance to States which submit a State Unified Plan authorized by title V, section 501 of the Workforce Investment Act of 1998 (WIA). The State Unified Plan Planning Guidance facilitates the development and submission of such a plan, which addresses two or more of the programs or activities specified at WIA Section 501(b)(2). This planning guidance updates the requirements for the WIA/Wagner Peyser Act and SCSEP portions of the Unified Plan. Options for programs funded by the U.S. Department of Education that are included in a State's Five-year Strategic Unified Plan also are discussed in this notice. Minor reference updates have been made for other programs authorized to be included in the Unified Plan. Therefore, States that choose to update the WIA/Wagner Peyser and/or SCSEP portions of a Unified Plan need only submit the updated Plan meeting the WIA/Wagner Peyser and/or SCSEP requirements of this document. States that choose to submit a new Unified Plan for PYs 2005-2007 for programs other than SCSEP, title I of WIA and the Wagner Peyser Act, will continue to use the guidance and instructions contained in this document, which have not been revised.

An approved Workforce Investment Plan is required in order for States to receive formula allotments under WIA title I and the Wagner Peyser Act. The current Workforce Investment Plans expire June 30, 2005. The Department of Labor is anticipating the reauthorization of WIA within the next two years. To meet the requirements of WIA and Wagner Peyser that States must have approved Plans in place to receive allotments, the Employment and Training Administration (ETA) is requiring States to only develop a Plan for the first two years of the five-year strategic planning cycle. This will allow States to strategically approach their workforce investment policies for the immediate future, without requiring a full five-year unified plan, in light of the anticipated reauthorization of WIA. States which choose to submit the WIA Title I/Wagner Peyser Plan as part of a Unified Plan must comply with the requirements of these guidelines. Guidelines for the submission of a stand-alone WIA title I Plan are being issued separately.

Options for programs funded by the U.S. Department of Education. With respect to the programs originally authorized by the Carl D. Perkins Vocational and Technical Education Act of 1998 (Perkins III) and the Adult Education and Family Literacy Act (AEFLA), the U.S. Department of Education already has issued guidance to States that discusses the option of extending the existing State plans with certain necessary revisions. This option of extending the existing plan applies as well to any subsections of a unified State plan that are related to programs under either Perkins III or AEFLA. A State's request to extend subsections of a unified plan must be submitted directly to the U.S. Department of Education and is due April 15, 2005, for Perkins III programs and April 1, 2005, for AEFLA programs. See Program Memorandum OVAE/DHSPCE FY 2005-03, Guidance for Submission of State Plan Revisions, Budgets, and Proposed Performance Levels for Perkins Grant Awards (OMB Control number 1830-0556), dated January 14, 2005, at the following Web site: http://www.ed.gov/policy/sectech/guid/cte/memo011405.doc See also Guide for the Development of a State Plan under the Adult Education and Family Literacy Act (OMB Control number 1830-0026).

The U.S. Department of Education anticipates that States will choose the option of extending their existing subsections of the currently approved unified State plans with only the revisions discussed in the above-referenced guidance. However, any State that chooses to submit new subsections related to the Perkins III or AEFLA programs in its unified State plan submitted in accordance with this notice must fully comply with all the planning, content, and other requirements that applied when the unified plan was originally developed, adopted, and submitted. These requirements are summarized together with references to the underlying statutory and regulatory requirements in the second section of this notice. With respect to the Perkins III programs, for example, these requirements include State consultation of required parties and entities, public hearings, and adoption of the new State plan by the eligible agency, i.e., the State board that is the sole State agency responsible for the administration, or the supervision of the administration, of the State's vocational and technical education program. With respect to the AEFLA program, for example, these requirements include conducting a needs assessment.

B. Background

The State Unified Plan Planning Guidance provides a framework for the collaboration of Governors, Local Elected Officials, businesses and other partners to design and build workforce investment systems that address customer needs; deliver integrated, user-friendly services; and are accountable to the customers and the public. Only provisions related to the SCSEP, WIA title I and Wagner Peyser Act Plan have been changed. The Unified Plan requirements for other programs remain the same as those outlined in the January 14, 2000 version of this document (65 Federal Register 2464).

C. Section 501 Programs and Activities

Below is a listing of the programs and activities covered in Section 501 of WIA, along with the commonly used name. In this document, we generally refer to the activities and programs by their commonly used names. Should State staff need information on the programs listed, a staff contact is provided here also.

• Secondary Vocational Education programs (Perkins III/Secondary) Note that inclusion of this program in the Unified Plan requires prior approval of State legislature Administered by Department of Education, Office of Vocational and Adult Education. Staff Contact: Jennifer Brianas: 202-245-7808 (phone); 202-245-7837 (fax); (E-mail: Jennifer.brianas@ed.gov).

• Postsecondary Vocational Education programs (Perkins III/Postsecondary) Administered by Department of Education, Office of Vocational and Adult Education. Staff Contact: Jennifer Brianas: 202-245-7808 (phone); 202-245-7837 (fax); (E-mail: Jennifer.brianas@ed.gov).

• Tech-Prep Education (Title II of Perkins III) Administered by Department of Education, Office of Vocational and Adult Education. Staff Contact: Jennifer Brianas: 202-245-7808 (phone); 202-245-7837 (fax); (E-mail: Jennifer.brianas@ed.gov).

• Activities authorized under title I, Workforce Investment Systems (Workforce Investment Activities for Adults, Dislocated Workers and Youth, or WIA title I) Administered by Department of Labor, Employment and Training Administration. Staff Contact: Christine D. Kulick: 202-693-3045 (phone); 202-693-3015 (fax); (E-mail: kulick.christine@dol.gov).

• Activities authorized under title II of WIA, Adult Education and Family Literacy (Adult Education and Family Literacy Programs) Administered by Department of Education, Office of Vocational and Adult Education. Staff Contact: Jennifer Brianas: 202-245-7808 (phone); 202-245-7837 (fax); (E-mail: Jennifer.brianas@ed.gov).

• Food Stamp Employment and Training Program, or FSET Administered by USDA, Food and Nutrition Service. Staff Contact: Micheal Atwell: 703-305-2449 (phone); 703-305-2486 (fax); (E-mail: micheal.atwell@fns.usda.gov).

• Activities authorized under chapter 2 of title II of the Trade Act of 1974 (Trade Act Programs) Administered by Department of Labor, Employment and Training Administration. Staff Contact: Terry Clark: 202-693-3707 (phone); 202-693-3585 (fax); (E-mail: clark.terry@dol.gov).

• Programs authorized under the Wagner-Peyser Act (Employment Service) Administered by Department of Labor, Employment and Training Administration. Staff Contact: Stephanie Cabell: 202-693-2784 (phone); 202-693-3015 (fax); (E-mail: cabell.stephanie@dol.gov).

• Programs authorized under part B of title I of the Rehabilitation Act of 1973, other than section 112 of such Act (Vocational Rehabilitation) Administered by Department of Education, Rehabilitation Services Administration. Staff Contact: Jerry Abbott: 202-245-7251 (phone); 202-245-7590 (fax); (E-mail: jerry.abbott@ed.gov)

• Programs authorized under chapters 41 and 42 of title 38, U.S.C., and 20 CFR 1001 and 1005 (Veterans Programs, including Veterans Employment, Disabled Veterans' Outreach Program, and Local Veterans' Employment Representative Program) Administered by Department of Labor, Veterans' Employment and Training Service. Staff Contact: Pamela Langley: 202-693-4708 (phone); 202-693-4755 (fax); (E-mail: langley.pamela@dol.gov).

• Programs authorized under State unemployment compensation laws (Unemployment Insurance) Administered by Department of Labor, Employment and Training Administration. Staff Contacts: William Coyne; 202-693-3202 (phone); 202-693-3975 (fax); (E-mail: coyne.william@dol.gov); or Delores Mackall: 202-693-3183 (phone); 202-693-3975; (E-mail: mackall.delores@dol.gov).

• Programs authorized under part A of title IV of the Social Security Act (Temporary Assistance for Needy Families (TANF) administered by Health and Human Services, Administration for Children and Families. Staff Contact: Robert M. Shelbourne: 202-401-5150 (phone); 202-205-5887 (fax); (E-mail: RShelbourne@acf.hhs.gov).

• Programs authorized under title V of the Older Americans Act of 1965 (Senior Community Service Employment Program, or SCSEP) Administered by Department of Labor, Employment and Training Administration. Staff Contact: Ria-Moore Benedict: 202-693-3198 (phone); 202-693-3817 (fax); (E-mail: benedict.ria@dol.gov).

• Training activities funded by the Department of Housing and Urban Development under the Community Development Block Grants (CDBG) and Public Housing Programs). Staff Contact: Christopher Lord: 202-708-1506; Fax: 202-708-2706 (E-mail: Christopher_D._Lord@hud.gov).

• Programs authorized under the Community Services Block Grant Act (Community Services Block Grant, or CSBG) Administered by Health and Human Services, Administration for Children and Families. Staff Contact: Brandy RayNor: 202-205-5926 (phone); 202-402-5718 (fax); (E-mail: BRayNor@acf.hhs.gov).

While the statute specifies that States may submit a Unified Plan that includes “training activities” carried out by HUD, for a number of reasons, the Federal Partners agree that the unique nature of HUD's training activities warrants special treatment in a Unified Plan.

Accordingly, the final Unified Plan guidance provides for informal inclusion of HUD's programs. Since HUD programs are generally funded and implemented through local communities, and HUD's relevant State formula grant programs are not specifically employment and training programs, States that follow the final Unified Planning guidance will not automatically receive funding for HUD's formula programs through their Unified Plans. However, to encourage States to think strategically about developing a comprehensive workforce investment system—including how that system relates to the housing and workforce investment needs of the population receiving housing assistance—the final guidance includes references to HUD customers and services, as well as local housing agencies, in the overarching questions pertaining to the Unified Plan's vision and goals, One-Stop service delivery, and needs assessment.

D. Submission of State Unified Plans

1. Submission—Time Requirements for Submission and Points of Contact

States have the option of submitting a Unified Plan to meet the requirements for submission of a state Workforce Investment Plan for Program Year 2005 and 2006. Due to the uncertainty relating to possible reauthorization of WIA, the Federal Government is only requiring the submission of the first two program years of the WIA/Wagner Peyser portion of the five-year Unified Plan. The due date for submission of a Unified Plan covering the first two-year period (July 1, 2005 through June 30, 2007) is Tuesday, May 31, 2005.

A State's request to extend subsections of a unified plan related to programs under either Perkins III or AEFLA must be submitted directly to the U.S. Department of Education and is due April 15, 2005, for Perkins III programs and April 1, 2005, for AEFLA programs. See Program Memorandum OVAE/DHSPCE FY 2005-03, Guidance for Submission of State Plan Revisions, Budgets, and Proposed Performance Levels for Perkins Grant Awards (OMB Control number 1830-0556), dated January 14, 2005, at the following Web site: http://www.ed.gov/policy/sectech/guid/cte/memo011405.doc. See also Guide for the Development of a State Plan under the Adult Education and Family Literacy Act (OMB Control number 1830-0026).

To reduce the reporting and processing burden, States have the option of submitting their WIA/Wagner-Peyser or SCESP Unified Plan to either WIA.PLAN@DOL.GOV or to the designated Federal Coordinator for Plan Review and Approval (hereafter, “Federal Coordinator”), depending upon the submission option chosen by the State (as discussed below). The Federal Coordinator is Christine Kulick, e-mail: kulick.christine@dol.gov; phone: 202-693-3045. Her postal address is: Division of One-Stop Operations, Employment and Training Administration, U.S. Department of Labor, 200 Constitution Ave., NW., Room S-4231, Washington, DC 20210, ATTN: Ms. Christine Kulick.

States are encouraged to send a single copy to WIA.PLAN@DOL.GOV (which is managed by the Federal Coordinator) or directly to the Federal Coordinator who will be responsible for distributing the Plan to each Federal agency whose programs are included in the Unified Plan. The Federal Coordinator will also provide a copy of the Plan to the appropriate Department of Labor (DOL) Regional Office.

States have the option, however, of submitting their Unified Plans directly to each Federal Department whose programs are included in the Unified Plan, except for Perkins III and AEFLA simple extensions, which must be submitted to the U.S. Department of Education as stated above. States choosing this option are only required to send the Plan to the designated Federal Departmental State Unified Plan Contact (hereafter, “Departmental Contact”). The Departmental Contact will be responsible for ensuring that affected agencies and appropriate Regional Offices in that Department receive copies of the Unified Plan. For example, if a Unified Plan contains plans for both the Vocational Rehabilitation and the Postsecondary Vocational Education programs, both of which are administered by different agencies within the United States Department of Education, the State need only submit the Plan to the U.S. Department of Education once, and it should be sent to the Departmental Contact. Electronic mail addresses for the Departmental Contacts are as follows:

Department of Labor: kulick.christine@dol.gov

Department of Education: jerry.abbott@ed.gov

Department of Health and Human Services: Rshelbourne@acf.hhs.gov

Department of Agriculture: micheal.atwell@fns.usda.gov

Department of Housing and Urban Development: Christopher_D._Lord@hud.gov

2. Submission Options—Electronic, CD-ROM or Hard Copy Format

States have the option to submit Unified Plans in an electronic, hard copy, or CD-ROM format. The Federal Government is encouraging States to submit Unified Plans in electronic format to reduce the reporting and process burden and to ensure timely receipt by each Federal agency whose programs are included in the Unified Plan.

Electronic submission. States can submit a Unified Plan electronically either by posting it on an Internet Web site that is accessible to the Department or by transmitting it through electronic mail to the Department.

Posting Unified Plans on an Internet Web site. Under this option, a State need only post its Plan on an Internet Web site; inform the Federal Coordinator through electronic mail of the URL and the location of the document on the Web site; provide contact information in the event of problems with accessing the Web site; and certify that no changes will be made to the version of the Plan posted on the Web site after it has been submitted to the Department, unless the Federal Coordinator or Federal agency overseeing the portion to be changed grants prior approval. The Federal Coordinator will ensure that Federal agencies whose programs are included in the Unified Plan, and the appropriate DOL Regional Office, receive the relevant information: the URL and the location of the document on the Web site; the contact information; and a copy of the statement certifying that there will be no changes.

Transmitting Unified Plans by electronic mail. Any State submitting its Plan by electronic mail should send it to WIA.PLAN@DOL.GOV. The Federal Coordinator, who manages this site, will ensure that Federal agencies whose programs are included in the Unified Plan receive a copy. The Federal Coordinator will also provide a copy to the appropriate DOL Regional Office.

Other considerations when using electronic submission. Unified Plan certifications with electronic signatures are acceptable. If a State chooses not to use an electronic signature, then the signature page must be submitted in hard copy. If a State chooses to submit its Unified Plan by transmitting it through electronic mail, the State must submit it in Microsoft Word or PDF format.

Hard copy or CD-ROM submission. States choosing to submit a hard copy should submit one copy of the Plan (with an original signature) to Christine Kulick, the Federal Coordinator for Plan Review and Approval (the address is provided above). The Federal Coordinator will ensure that Federal agencies whose programs are included in the Unified Plan, and the appropriate DOL Regional Office, receive copies of the Plan.

States submitting a Unified Plan on CD-ROM should submit one copy of the Plan to Christine Kulick, the Federal Coordinator for Plan Review and Approval. The Federal Coordinator will ensure that Federal agencies whose programs are included in the Unified Plan, and the appropriate DOL Regional Office, receive copies of the Plan. If the Plan on the CD-ROM does not include the signature of the Governor on the signature page, the State must submit separately an electronic signature or a signature page in hard copy. Plans submitted on a CD-ROM must be in Microsoft Word or PDF format.

It is important that States recognize that mail security requirements implemented by the U.S. Postal Service can result in delays in delivery of Plans whereas Federal Express and United Parcel Service deliveries have not been impacted.

States are encouraged to include a table of contents at the beginning of its State Unified Plan. This will facilitate access by the public to its component parts and aid the Federal Government in its review of the Unified Plan. States submitting a hard copy of their Plan are encouraged to provide an unbound copy to facilitate duplication.

The Federal Coordinator, without regard to which option the State uses for submission, will confirm receipt of the State Unified Plan within two workdays of receipt and indicate the date for the start of the review period. When a State submits an incomplete Plan, the period for review will not start until all required components of the Unified Plan have been received.

E. Federal Government Review and Approval of Unified Plan

Section 501(d)(2) of WIA States that a portion of a State Unified Plan covering an activity or program is to be considered to be approved by the appropriate Secretary at the end of the 90-day period beginning on the day the appropriate Secretary receives the portion unless the appropriate Secretary makes a written determination, during the 90-day period, that the portion is not consistent with the requirements of the Federal statute authorizing the activity or program or section 501(c)(3) of WIA. However, for Unified Plans that are submitted by May 31, 2005, for the two-year planning period, July 1, 2005 through June 30, 2007, the Department of Labor is committed to completing its review of those portions of the Unified Plan related to WIA/W-P and SCSEP within 30 days, to allow States additional time to prepare the Plan.

The appropriate Secretary, or his/her representative, will advise the State by letter, as soon as possible, that the portion of the Unified Plan over which his/her agency exercises administrative authority is approved or disapproved. If the plan is not approved, the appropriate Secretary, or his/her representative, will advise the State by letter that the portion of the Unified Plan over which his/her agency exercises administrative authority is not consistent with the requirements of the Federal statute authorizing the activity or program, or with section 501(c)(3) of WIA Unified Plan, and clearly indicate the reasons for disapproval and specify what additional information is required or what action needs to be taken for the Unified Plan to be approved.

F. How To Use “Attachment B”

1. Forms for State Use

In Attachment B you will find three forms for use in submitting your State Unified Plan. These forms are available for electronic download, along with this entire guidance, at http://www.doleta.gov/usworkforce.

a. Unified Plan Activities and Programs Checklist: Please provide a list of the section 501 programs and activities you have included in your Plan. Use of this specific format is optional.

b. Contact Information: Please provide the contact information requested for each of the Section 501 programs and activities that you have included in your Plan. Programs and activities may be combined on one form if they have the same contact information. Use of this specific format is optional.

c. Plan Signature(s): Please provide the required signatures as appropriate for the programs and activities you have included in your State Unified Plan. Use of this specific format is optional, but the wording on your signature page must be identical to that provided here.

2. Program Descriptions

Please respond fully to the general questions in the program descriptions section, as well as the additional questions that relate to the programs and activities that are included in your State's Unified Plan.

3. Certifications and Assurances

By signing the signature page(s), you are assuring or certifying those items in the Certifications and Assurances section that apply to the programs and activities you have included in your State's Unified Plan.

G. Modifications

Modifications may be needed in any number of areas to keep the Unified Plan a viable, living document over its two-year life. WIA regulations permit states to modify their state workforce investment plan at any time. In general, it is substantial changes to the Unified Plan that require a modification, i.e., any change that significantly impacts the operation of the state's workforce investment system.

Plan modifications must be submitted to the Federal Coordinator, who will ensure that Federal agencies whose programs are included in the Unified Plan receive a copy, or to appropriate Federal agency, in accordance with the procedures of the affected agency. Prior to submission of the modification for review and approval by the Federal Government, the designated State agency must circulate the modifications among the other state and/or local agencies that may be affected by the changes. Inclusion of a program in the state Unified Plan does not remove the statutory requirement for certain programs to annually review the plan and submit modifications as needed or to revise a plan to reflect newly negotiated performance levels.

Modifications to the Unified Plan are subject to the same public review and comment requirements that apply to the development of the original plan. States should direct any questions about the need to submit a plan modification to the Federal Coordinator, the Departmental Contacts listed above, or to the Regional Administrator or Regional Commissioner who exercises administrative authority over the activity or program(s) impacted by the modification.

H. Inquiries

General inquiries about the State Unified Plan process may be directed to the Federal Coordinator for Plan Review and Approval. The electronic mail address for the Federal Coordinator (Christine Kulick) is kulick.christine@dol.gov. The Federal Coordinator may be contacted by phone at 202-693-3045. Inquiries related to specific activities and programs can be directed to the staff contacts listed above.

II. National Strategic Direction

A. Vision and Goals Related to WIA Title I and Wagner Peyser

1. The purpose of this portion of this WIA and Wagner Peyser Unified Planning Guidance is to communicate national direction and strategic priorities for the workforce investment system. Broadly, the Federal goals for the workforce investment system for this planning cycle include:

a. Realizing the reforms envisioned by the Workforce Investment Act including:

i. Integrated, seamless service delivery through comprehensive One-Stop Career Centers;

ii. A demand-driven workforce system governed by business-led Workforce Investment Boards;

iii. Maximum flexibility in tailoring service delivery and making strategic investment in workforce development activities to meet the needs of State and local economies and labor markets;

iv. Customers making informed choices based on quality workforce information and accessing quality training providers;

v. Increased fiscal and performance accountability; and

vi. A youth program targeting out-of-school populations with increased accountability for employment and/or increased secondary and post-secondary education outcomes.

b. Incorporating new statutory and regulatory program requirements that have evolved since the passage of WIA, such as priority of service for veterans as prescribed by the Jobs for Veterans Act (Pub. L. 107-288), (38 U.S.C. 4215).

c. Providing the national strategic priorities and direction in the following areas:

i. Implementation of a demand-driven workforce system;

ii. System reform to eliminate duplicative administrative costs and to enable increased training investments;

iii. Enhanced integration of service delivery through One-Stop delivery systems nationwide;

iv. A refocusing of the WIA youth investments on out-of-school youth populations, collaborative service delivery across Federal programs, and increased accountability;

v. Improved development and delivery of workforce information to support Workforce Investment Boards in their strategic planning and investments; providing tools and products that support business growth and economic development; and providing quality career guidance directly to students and job seekers and their counselors through One-Stop Career Centers;

vi. Faith-based and community-based organizations playing an enhanced role in workforce development;

vii. Enhanced use of waivers and workflex provisions in WIA to provide greater flexibility to States and local areas in structuring their workforce investment systems; and

viii. Reporting against common performance measures across Federal employment and training programs.

B. Demand-Driven Workforce Investment System

1. The realities of today's global economy make it imperative that the public workforce investment system be demand-driven, providing services that prepare workers to take advantage of new and increasing job opportunities in high growth/high demand and economically vital industries and sectors of the American economy. The foundation of this effort is partnerships that include the workforce system, business and industry, and education and training providers, that develop and implement a strategic vision for economic development. Becoming demand-driven represents a major transformation of this system, which, for 40 years, has been primarily framed around individuals needs for service rather than focusing on both the needs of job seekers and the business community.

2. To be successful, the workforce investment system must begin today to prepare the workforce of tomorrow. Each year, the United States invests approximately $15 billion into the workforce system. To ensure that this large investment is used effectively, it is imperative that all of the components of the workforce system at the national, State, and local levels become demand-driven and contribute to the economic well-being of communities and the nation by developing a qualified and competitive workforce. Current job opportunities must be known as well as where the good jobs will be in the future by (1) identifying the workforce needs in high-growth, high-demand and economically critical industries and the necessary preparation required to succeed in those occupations and (2) understanding the workforce challenges that must be addressed to ensure a prepared and competitive workforce. This requires all of the key players in the State and local system, including Governors and Local Elected Officials, State and Local Workforce Investment Boards (WIBs), State Workforce Agencies, and One-Stop Career Centers to:

a. Have a firm grasp of their State and local economies;

b. Strategically invest and leverage their resources;

c. Build partnerships between industry leaders and educational institutions that develop solutions to workforce challenges; and

d. Allocate training dollars to provide the skills and competencies necessary to support industry now and in the future.

3. The workforce investment system is a catalyst that links employers, economic development organizations, public agencies, and the education community to build and deliver innovative answers to workforce challenges.

4. Development of a demand driven strategic plan requires utilizing economic information and analysis to drive strategic investments, identifying strategic partners, and designing effective service delivery systems. Some of the important elements of a demand-driven strategic plan include the following:

a. Economic analysis is a fundamental starting point for a demand-driven approach to workforce investment. A wide array of workforce information and data, including economic indicators, labor market information, census data, educational data, transactional data, projections and data from the private sector, and one-on-one interviews with businesses needs to be collected and analyzed.

b. Workforce strategies that target industries that are high growth, high demand and critical to the State and/or local economy are most likely to support economic growth and provide individuals with the opportunities to get good jobs with good pay and career pathways.

c. Strategic partnerships among the workforce investment system, targeted businesses and industries, economic development agencies, and education and training providers (including K-12) provide a strong foundation for identifying workforce challenges and developing and implementing innovative workforce solutions focused on a workforce with the right skills. The workforce system must be the catalyst for bringing these target partnerships together.

d. A solutions-based approach that brings the right strategic partners and resources to the table promotes a comprehensive analysis of workforce challenges and also provides the synergy for successful, innovative workforce solutions and the opportunity to effectively leverage workforce investment resources.

e. A demand-driven workforce investment system ensures that the full array of assets available through the One-Stop delivery system is available to support individual workers as well as to provide solutions to workforce issues identified by business and industry.

f. Translating the demand for workers with the skills businesses need into demand-driven career guidance must be one of the human resource solutions provided broadly by the workforce investment system.

5. The WIA and Wagner Peyser related Unified Planning guidance includes new language in support of these principles which offers States an opportunity, in the context of the State Planning process, to formally articulate demand-driven goals and strategies tailored to the unique needs of the State.

C. System Reform and Increased Focus on Training

1. Workforce training is one of the major areas in which the President is focusing reform efforts. In April 2004, he challenged the workforce investment system at the State and local levels to eliminate unnecessary overhead costs and simplify administration in order to preserve more resources for training. The system currently spends approximately 30% of appropriated funds each year on infrastructure and “other” costs as currently reported by States as part of their routine reporting under WIA. Some of these funds are wisely spent, but clearly more can be made available for training. The President has called for the system to double the number of individuals trained under major WIA grant programs. Through WIA reauthorization, additional reforms in support of these goals are anticipated.

2. The WIA State Plan provides States with a platform to promote greater efficiencies in the workforce system by articulating administrative policies for State and local governance processes. The State has multiple vehicles to increase consolidation and integration of the infrastructure through policies, required practices, provision of technical assistance and monitoring. The State also can articulate its goals for expenditures of resources for training in industries and occupations critical to the State's economy.

D. Enhanced Integration Through One-Stop Delivery System

1. One of the primary expectations of the workforce system under the WIA statutory framework is a seamless, integrated One-Stop delivery system. The expectation for an integrated service delivery system remains firmly embedded as a key principle of a demand-driven workforce system.

2. The goal of integration is to ensure that the full spectrum of community assets is used in the service delivery system, and to support human capital solutions for businesses, industry and individual customers. Different programs fund different types of services and serve different populations. These unique program features in the system provide both breadth and depth to the human capital solutions offered to businesses and industry. However, the assets go beyond program funding, and without integration of those assets, the system limits its impact and success.

3. The workforce system has had a vision of integration for over a decade, supported with the Federal investment in One-Stop Centers in the mid-1990s and later realized in statute with the passage of WIA. Despite many efforts, the vision of seamless, integrated service delivery remains unrealized in many areas. It is still all too common to visit local areas across the nation and find a One-Stop office within blocks of a separate “job service” or “affiliate” office or a comprehensive One-Stop Center where programs are co-located, but with little integration. In addition, there is often a lack of consistency in policy and service delivery across workforce investment areas within a State, which causes customer confusion and frustration. While there are real challenges to achieving the vision of integration, it is a vision that can be realized. Due to strong leadership, creativity, and hard work at the State and local levels, a number of One-Stop Centers have overcome turf issues and administrative challenges to offer integrated service delivery.

4. Strong State leadership has been identified as one of the key success factors in achieving integration in One-Stop Centers. The WIA State Planning process offers a unique opportunity for the Governor and the State Workforce Investment Board to clearly articulate the State's goals for integration and to help remove any barriers. The Employment and Training Administration (ETA) is committed to working with States to support integration efforts.

E. New Vision for Serving Youth Most In Need

1. The Administration is committed to trying bold, innovative and flexible initiatives to prepare the most at-risk and neediest youth for jobs in our changing economy. ETA, in collaboration with the Departments of Education, Health and Human Services, and Justice, has developed a new strategic vision to more effectively and efficiently serve out-of-school and those at risk of dropping out-of-school (Training and Employment Guidance Notice No. 3-04). Regional Youth Forums were conducted in the fall of 2004 that brought together State youth leaders to develop similar partnerships at the State level, and to begin to develop a common vision and action plan for implementing cross-agency State approaches for serving the neediest youth.

2. Out-of-school youth (and those most at risk of dropping out) are an important part of the new workforce supply pipeline needed by businesses to fill job vacancies in a knowledge-based economy. WIA-funded youth programs should connect these youth with quality secondary and post-secondary educational opportunities and high-growth and other employment opportunities.

3. ETA's new vision for serving youth will present challenges for how State and local WIA programs interact and link with State and local education and economic development systems. To achieve this vision, States should consider this new strategic approach and associated goals across four major areas:

a. Alternative Education—Goal: Provide leadership to ensure that youth served in alternative education programs will receive a high quality education that adheres to the State standards developed in response to the No Child Left Behind (NCLB) legislation.

b. Demand of Business—Goal: The investment of WIA youth resources will be demand-driven, assuring that youth obtain the skills needed by businesses so that they can succeed in the 21st century economy.

c. Neediest Youth—Goal: Investments will be prioritized to serve youth most in need including out-of-school youth (and those at risk of dropping out of school), youth in foster care, those aging out of foster care, youth offenders, children of incarcerated parents, homeless youth, and migrant and seasonal farmworker youth.

d. Improved Performance—Goal: Key initiatives will be implemented to assure that programs are performance-based and focused on outcomes.

4. ETA has developed strategic partnerships at the Federal level with the Department of Education's Office of Vocational and Adult Education, the Department of Health and Human Services' Administration for Children and Families, and the Department of Justice's Office of Juvenile Justice and Delinquency Prevention. Through the State Planning process, Governors have the opportunity to promote strategic partnerships across State agencies serving youth to enhance service delivery and more effectively leverage available resources. ETA encourages Governors to play a key leadership role in enhancing intra-State coordination among these agencies and to develop cross-agency approaches for serving youth. The WIA State Planning process is a vehicle for driving a Statewide youth vision that ensures that previously marginalized youth become an important pipeline of workers.

F. A Stronger Workforce Information System

1. As discussed previously, a strong foundation of economic data and workforce information, along with the ability to analyze the data and transform it into easily understood intelligence, is one of the keys to effective strategic planning for a demand-driven workforce investment system. To achieve that vision, the workforce system needs to move beyond traditional labor market information strategies and develop a workforce information system that helps drive both economic development and workforce investment for the State. In their lead role, States need to embrace a wide array of data sources, new strategies for making it available to customers, and consider alternative ways to invest and leverage public and private resources to build the State's workforce information system.

Workforce information is critical not only for driving the investments of the workforce system, but it is also a fundamental decision tool for the nation's businesses, students, workers, parents, guidance counselors, and education institutions. The development of workforce information is the responsibility broadly of Governors, State workforce agencies, State agencies designated under WIA as responsible for labor market information, State economic development agencies, and Local Workforce Investment Boards.

G. Effective Utilization of Faith-Based and Community-Based Organizations

1. President Bush signed Executive Order 13198 on January 29, 2001, with the goal of removing statutory, regulatory, and procedural barriers that prevent faith-based and community organizations (FBCOs) from participating in the provision of social services. The Department of Labor Center for Faith-based and Community Initiatives, created under the Executive Order has worked closely with ETA to help increase the opportunities for FBCOs to partner with the workforce investment system. As legal and regulatory barriers have been removed, the Department of Labor has been increasingly focusing on ways to integrate FBCOs into the WIA system at the local level including:

a. Expanding the access of faith-based and community organizations' clients and customers to the training, job and career services offered by the local One-Stop Centers;

b. Increasing the number of faith-based and community organizations serving as committed and active partners in the One-Stop delivery system.

2. By integrating the workforce system with the resources available through these organizations, the capacity of the workforce investment system to serve those most in need is significantly expanded. Continuing to promote integration of FBCOs remains a focal point for the President and the Department of Labor. States are encouraged to incorporate strategies that include FBCOs into their State Plans.

H. Increased Use of Flexibility Provisions in WIA

For the workforce system to be successful in promoting business prosperity and employment opportunities for workers, States must have the flexibility to design innovative programs based on local need and labor markets. WIA as it exists today provides significant opportunities to States to obtain waivers of statutory and regulatory requirements that may impede achieving the State's workforce goals. Therefore, one of the key focal points as States move into a new planning cycle is to encourage States to utilize the full range of flexibility offered under WIA's waiver and workflex provisions. The workflex option has not been utilized by States and may offer the greatest range of opportunity for States. ETA is committed to sharing the waiver strategies States have utilized to date and providing technical assistance to States considering requesting waivers. The State Unified Plan provides a vehicle for the State to identify waiver opportunities and to formally request waivers in concert with overall strategic planning. Waivers may be requested at other times as well.

I. Performance Accountability and Implementation of Common Performance Measures

1. Improved performance accountability for customer-focused results is a central feature of WIA and remains a strategic priority for the President and the Department of Labor. In an effective accountability system, a clear link should exist between the State's program design and the results achieved. The performance information should be available to and easily understood by all customers, stakeholders, and operators of the workforce investment system.

2. To enhance the management of the workforce system and the usability of performance information, the Department, in collaboration with other Federal agencies, has developed a set of common performance measures for Federally-funded training and employment programs. The value of common measures is the ability to describe in a similar manner the core purposes of the workforce system—did people find jobs; did people stay employed; and did earnings increase? Standardizing the definitions of the outcomes across programs simplifies reporting. Coupled with valid and accurate information, use of common measures provides a greater ability to compare and manage results.

3. It is ETA's intent to begin data collection in support of common measures effective July 1, 2005, for Program Year 2005. This was recently announced in Training and Employment Guidance Letter 18-04, “Announcing the soon-to-be-published Proposed Revisions to Existing Performance Reporting Requirements for the Implementation of Common Measures for title I of the Workforce Investment Act (WIA), the Wagner-Peyser Act (Employment Service (ES)/Labor Exchange), the Trade Adjustment Assistance Reform Act (TAA), and title 38, chapter 41 Job Counseling, Training, and Placement Service (Veterans' Employment and Training Service (VETS)).” Prior to the effective date, ETA will publish proposed revisions to reporting and recordkeeping requirements in support of common measures in a separate Federal Register Notice.

4. The common measures are an integral part of ETA's performance accountability system. ETA will continue to collect from states and grantees other data on program activities, participants, and outcomes necessary for program management, including data that support the existing WIA performance measures, and to convey full and accurate information on the performance of workforce programs to policymakers and stakeholders.

III. Unified Planning Instructions

Note: The statutes cited in parentheses refer to the authorizing legislation for each respective program. This unified planning guidance only relates to planning requirements; it does not affect the statutory and regulatory requirements relating to other aspects of programs included in the plan. References to the Welfare-to-Work program have been deleted due to the expiration of that program.

A. Vision and Priorities

WIA/Wagner Peyser Plan requirements:

1. Describe the Governor's vision for a Statewide workforce investment system. Provide a summary articulating the Governor's vision for utilizing the resources of the workforce system in support of the State's economic development that address the issues and questions below. States are encouraged to attach more detailed documents to expand upon any aspect of the summary response if available. (WIA § 112(a) and (b)(4)(A-C).)

2. What are the State's economic development goals for attracting, retaining and growing business and industry within the State? (§ 112(a) and (b)(4)(A-C).)

3. Given that a skilled workforce is a key to the economic success of every business, what is the Governor's vision for maximizing and leveraging the broad array of Federal and State resources available for workforce investment flowing through the State's cabinet agencies and/or education agencies in order to ensure a skilled workforce for the State's business and industry? (§ 112(a) and (b)(4)(A-C).)

4. Given the continuously changing skill needs that business and industry have as a result of innovation and new technology, what is the Governor's vision for ensuring a continuum of education and training opportunities that support a skilled workforce? (§ 112(a) and (b)(4)(A-C).)

5. What is the Governor's vision for bringing together the key players in workforce development including business and industry, economic development, education, and the workforce system to continuously identify the workforce challenges facing the State and to develop innovative strategies and solutions that effectively leverage resources to address those challenges? (§ 112(b)(10).)

6. What is the Governor's vision for ensuring that every youth has the opportunity to develop and achieve career goals through education and workforce training, including the youth most in need, such as out of school youth, homeless youth, youth in foster care, youth aging out of foster care, youth offenders, children of incarcerated parents, migrant and seasonal farmworker youth, and other youth at risk? (§ 112(a).)

7. Given the labor shortage that will continue to increase over the next 25 years, describe the Governor's vision for how it will ensure that older individuals receive workforce training that will prepare them to reenter the labor market and become a workforce solution for employers. (§ 112 (b)(17)(A)(iv).)

B. One-Stop Delivery System

1. Describe the State's comprehensive vision of an integrated service delivery system, including the role each program incorporated in the Unified Plan in the delivery of services through that system.

In answering this question, if your Unified Plan includes:

(a) WIA Title I and Wagner-Peyser Act and/or Veterans Programs:

(i.) Identify how the State will use WIA Title I funds to leverage other Federal, State, local, and private resources in order to maximize the effectiveness of such resources and to expand the participation of business, employees, and individuals in the Statewide workforce investment system? (§ 112(b)(10).)

(ii.) What strategies are in place to address the national strategic direction discussed in Part I of this guidance, the Governor's priorities, and the workforce development issues identified through the analysis of the State's economy and labor market? (§ 112(a) and 112(b)(4)(D).)

(iii.) Based on the State's economic and labor market analysis, what strategies has the State implemented or plans to implement to identify and target industries and occupations within the State that are high growth, high demand, and vital to the State's economy? (§ 112(a) and 112(b)(4)(A).) The State may want to consider:

• Industries projected to add a substantial number of new jobs to the economy; or

• Industries that have a significant impact on the overall economy; or

• Industries that impact the growth of other industries; or

• Industries that are being transformed by technology and innovation that require new skill sets for workers; or

• Industries that are new and emerging and are expected to grow.

(iv.) What strategies are in place to promote and develop ongoing and sustained strategic partnerships that include business and industry, economic development, the workforce system, and education partners (K-12, community colleges, and others) for the purpose of continuously identifying workforce challenges and developing solutions to targeted industries' workforce challenges? (§ 112(b)(8).)

(v.) What State strategies are in place to ensure that sufficient system resources are being spent to support training of individuals in high growth/high demand industries? (§ 112(b)(4)(A) and 112(b)(17)(A)(i).)

(vi.) What workforce strategies does the State have to support the creation, sustainability, and growth of small businesses and support for the workforce needs of small businesses as part of the State's economic strategy? (§ 112(b)(4)(A) and 112(b)(17)(A)(i).)

(vii.) How are the funds reserved for Statewide activities used to incent the entities that make up the State's workforce system at the State and local levels to achieve the Governor's vision and address the national strategic direction identified in part I of this guidance? (§ 112(a).)

(viii.) Describe the State's strategies to promote collaboration between the workforce system, education, human services, juvenile justice, and others to better serve youth that are most in need and have significant barriers to employment, and to successfully connect them to education and training opportunities that lead to successful employment. (§ 112(b)(18)(A).)

(ix.) Describe the State's strategies to identify State laws, regulations, policies that impede successful achievement of workforce development goals and strategies to change or modify them. (§ 112(b)(2).)

(x.) Describe how the State will take advantage of the flexibility provisions in WIA for waivers and the option to obtain approval as a workflex State pursuant to § 189(i) and § 192.

2. Describe the actions the State has taken to ensure an integrated One-Stop service delivery system Statewide. (§§ 112(b)(14) and 121).)

a. What State policies and procedures are in place to ensure the quality of service delivery through One-Stop Centers such as development of minimum guidelines for operating comprehensive One-Stop Centers, competencies for One-Stop Career Center staff or development of a certification process for One-Stop Centers? (§ 112(b)(14).)

b. What policies or guidance has the State issued to support maximum integration of service delivery through the One-Stop delivery system for both business customers and individual customers? (§ 112(b)(14).)

c. What actions has the State taken to promote identifying One-Stop infrastructure costs and developing models or strategies for local use that support integration? (§ 112(b)(14).)

d. How does the State use the funds reserved for Statewide activities pursuant to (§ 129(b)(2)(B) and 134(a)(2)(B)(v) to assist in the establishment and operation of One-Stop delivery systems? (§ 112(b)(14).)

e. How does the State ensure the full spectrum of assets in the One-Stop delivery system support human capital solutions for businesses and individual customers broadly? (§ 112(b)(14).)

C. Plan Development and Implementation

1. Describe the methods used for joint planning and coordination of the programs and activities included in the Unified Plan. (WIA § 501(c)(3)(A).)

State Consultation with Local Areas in Development of Plan: The authorizing statutes for many of the programs that may be included in a Unified Plan require that the State Plan be developed in consultation with various public and private entities, as well as members of the general public. Some statutes also require formal public hearings. Depending upon the programs that a State chooses to include in its Unified Plan, it may be possible for the State to satisfy many of these consultation requirements through a single set of processes. For example, both WIA Title I and Perkins III require that the business community be involved in the development of the State Plans for these programs. The State may satisfy both of these requirements by involving the business community in the development of a Unified Plan that includes the two programs. Separate consultations are not necessary.

2. Describe the process used by the State to provide an opportunity for public comment and participation for each of the programs covered in the Unified Plan.

In addition, if your Unified Plan includes:

(a) Perkins III, the eligible agency must hold public hearings and include a summary of the recommendations made by all segments of the public and interested organizations and groups and the eligible agency's response to the recommendations in the State Plan. (§ 122(a)(3).)

(b) WIA Title I and Wagner-Peyser Act and/or Veterans Programs, describe the process used by the State, consistent with section 111(g) of WIA, to provide an opportunity for public comment, including comments by representatives of business and representatives of labor organizations, and input into development of the Plan, prior to submission of the Plan.

(c) Adult Education and Family Literacy, describe the process that will be used for public participation and comment with respect to the AEFLA portion of the Unified Plan. (§ 224(b)(9).)

(d) TANF, the State shall make available to the public a summary of any Plan or Plan amendment submitted by the State under this section. With respect to the TANF plan design, local governments and private sector organizations have been consulted regarding the plan and design of welfare services in the State so that the services are provided in a manner appropriate to local populations; and have had at least 45 days to submit comments on the plan and the design of such services. (§ 402(c).)

(e) CSBG, provide evidence that the public participation requirements were met, including documents which confirms that a legislative public hearing on the State Plan was conducted as required by subsection 675(b) and that the Plan was also made available for public inspection and review as required by 675(d)(2).

3. This section should describe the types of activities and outcomes that were conducted to meet the consultation requirement. Demonstrate, as appropriate, how comments were considered in the plan development process including specific information on how the various WIA agency and program partners were involved in developing the unified State Plan.

The following agencies, groups or individuals must be consulted, if your Unified Plan includes:

(a) Perkins III: (§ 122(a)(3),(b)(1), (c)(3), (e)(3).)

• Parents.

• Teachers.

• Students.

• Eligible Recipients.

• Representatives of special populations in the State.

• Representatives of business and industry in the State, including small- and medium-sized local businesses.

• Representatives of labor organizations in the State.

• Interested community members.

• Governor of the State.

In addition, the eligible agency must consult with the State agency responsible for secondary education and the State agency responsible for supervision of community colleges, technical institutes, or other 2-year post secondary institutions primarily engaged in providing postsecondary vocational and technical education concerning the amount and uses of funds proposed to be reserved for adult vocational and technical education, postsecondary vocational and technical education, tech-prep education, and secondary vocational technical education. Include any objections filed by either agency and your response(s). (§ 122(e)(3).)

(b) WIA Title I and Wagner-Peyser Act and/or Veterans Programs: (§§ 112(b)(1) and 112(b)(9).)

• The Governor of the State and State Board.

• Local Chief elected officials.

• Business community.

• Labor organizations.

• The following agencies, groups and individuals should also be consulted:

Local Boards and Youth Councils, Educators, Vocational Rehabilitation Agencies, Service providers, Welfare agencies, Faith-based and Community organizations and the State Employment Security Agency.

In addition, describe the role of the State Board and Local Boards in planning and coordination in the Unified Plan (§ 501(c)(3).)

Note: While WIA only requires the involvement of State Board and Local Boards in the planning and coordination of the programs and activities authorized under title I, the intent of the Unified Plan approach is to enable all the relevant parties in an area, if they so choose, to come together more readily to coordinate their activities in the best interests of the population to be served. However coordination is achieved, nothing in the Unified Plan or in WIA itself permits a Board or any other entity to alter the decisions made by another program grantee in accord with that grantee's statutes.

(c) Adult Education and Family Literacy:

• Governor of the State (any comments made by the Governor must be included in the Plan) (§ 224(d).)

(d) Vocational Rehabilitation:

• State Rehabilitation Council (include the response of the designated State unit to such input and recommendations). (§ 101(a)(21)(A)(ii)(III).)

(e) CSBG:

• Low-income individuals.

• Community organizations.

• Religious organizations.

• Representatives of low-income individuals.

(f) TANF:

• With respect to the TANF plan design, local governments and private sector organizations have been consulted regarding the plan and design of welfare services in the State so that services are provided in a manner appropriate to local populations; and have had at least 45 days to submit comments on the plan and the design of such services.

D. Needs Assessment

1. Describe the educational and job-training needs of individuals in the overall State population and of relevant subgroups of all the programs included in the Unified Plan.

Many of the programs that may be included in a Unified Plan require a needs assessment. State agencies should fulfill these assessment responsibilities collaboratively or, at a minimum, create a planning process that promotes the sharing of needs assessment information among all agencies involved in preparing the Unified Plan. Sharing of assessment data can create a framework for the coordinated and integrated services that are to be provided through the One-Stop delivery system. The State may organize the presentation of assessment data in its Unified Plan in a manner it deems most appropriate and useful for planning, such as on a program-by-program basis, by geographic region, or by special population.

In answering the above question, if your Unified Plan includes:

(a) WIA Title I and Wagner-Peyser Act and/or Veterans Programs, identify the types and availability of workforce investment activities currently in the State. (§ 112(b)(4)(A-D).)

(b) Adult Education and Family Literacy, objectively assess the adult education and literacy needs of individuals, including an assessment of those most in need and hardest to serve, including low income students, individuals with disabilities, single parents, displaced homemakers, and individuals with multiple barriers to educational enhancement (including individuals with limited English proficiency, criminal offenders in correctional institutions and other institutionalized individuals.) (§§ 224(b)(10) and 225).)

(c) Food Stamp Employment and Training (E&T), provide an answer and explain the method used to:

(i) Estimate the number and characteristics of the expected pool of work registrants during the fiscal year;

(ii) Estimate the number of work registrants the State agency intends to exempt from E&T, along with a discussion of the proposed exemption criteria;

(iii) Estimate the number of placements into E&T components during the fiscal year;

(iv) Estimate the number of ABAWDs (able-bodied adults without dependents) in the State during the fiscal year;

(v) Estimate the number of ABAWDs in both waived and unwaived area of the State during the fiscal year;

(vi) Estimate the average monthly number of ABAWDs included in the State's 15 percent exemption allowance, along with a discussion of how the State intends to apply the exemption;

(vii) Estimate the number of qualifying education/training and workfare opportunities for ABAWDS the State will create during the fiscal year.

(d) Vocational Rehabilitation:

(i) Assess the needs of individuals with disabilities in the State, particularly the vocational rehabilitation needs of individuals with the most significant disabilities (including their need for supported employment services), individuals with disabilities who have been unserved or under-served by the vocational rehabilitation program, and individuals with disabilities served through other components of the statewide workforce investment system. (§§ 101(a)(15)(A)(i)(I-III) and 625(b)(2).)

(ii) Include State estimates of the number of individuals in the State who are eligible for services under title I of the Rehabilitation Act, the number of such individuals who will receive services provided with funds provided under part B of title I and under part B of title VI (including, if the designated State agency uses an order of selection, estimates of the number of individuals to be served under each priority category within the order), and the costs of the services provided (including, if the designated State agency uses an order of selection, the service costs for each priority category within the order.) (§ 101(a)(15)(B).)

(iii) Provide an assessment of the need to establish, develop, or improve community rehabilitation programs within the State. (§ 101(a)(15)(A)(ii).)

(e) HUD Employment and Training Programs: (Reminder: the following is a suggestion for incorporating HUD programs into your State's Unified Plan. However, following this guidance will not trigger funding for HUD programs):

(i) Address the educational and training needs of public housing residents and other families receiving housing assistance.

2. WIA Title I and Wagner Peyser Act: Economic and Labor Market Analysis (§ 112(b)(4).): As a foundation for this strategic plan and to inform the strategic investments and strategies that flow from this Plan, provide a detailed analysis of the State's economy, the labor pool, and the labor market context. Elements of the analysis should include the following:

a. What is the current makeup of the State's economic base by industry?

b. What industries and occupations are projected to grow and/or decline in the short term and over the next decade?

c. In what industries and occupations is there a demand for skilled workers and available jobs, both today and projected over the next decade? In what numbers?

d. What jobs/occupations are most critical to the State's economy?

e. What are the skill needs for the available, critical and projected jobs?

f. What is the current and projected demographics of the available labor pool (including the incumbent workforce) both now and over the next decade?

g. Is the State experiencing any “in migration” or “out migration” of workers that impact the labor pool?

h. Based on an analysis of both the projected demand for skills and the available and projected labor pool, what skill gaps is the State experiencing today and what skill gaps are projected over the next decade?

i. Based on an analysis of the economy and the labor market, what workforce development issues has the State identified?

j. What workforce development issues has the State prioritized as being most critical to its economic health and growth?

E. State and Local Governance

1. What is the organization, structure and role/function of each State and local entity that will govern the activities of the Unified Plan?

In answering the above question, if your Unified Plan includes:

(a) Perkins III, describe the procedures in place to develop the memoranda of understanding outlined in Section 121(c) of the Workforce Investment Act of 1998 concerning the provision of services only for postsecondary students and school dropouts. (§ 122(c)(21).)

(b) WIA Title I and Wagner-Peyser Act and/or Veterans Programs:

(i) Organization of State agencies in relation to the Governor:

1. Provide an organizational chart that delineates the relationship to the Governor of the agencies involved in the public workforce investment system, including education and economic development and the required and optional One-Stop partner programs managed by each agency.

2. In a narrative describe how the agencies involved in the public workforce investment system interrelate on workforce and economic development issues and the respective lines of authority.

(ii) State Workforce Investment Board:

1. Describe the organization and structure of the State Board. (§ 111).):

2. Include a description of the process by which State and Local Boards were created.

3. Identify the organizations or entities represented on the State Board. If you are using an alternative entity which does not contain all the members required under section 111(b)(1), describe how each of the entities required under this section will be involved in planning and implementing the State's workforce investment system as envisioned in WIA. How is the alternative entity achieving the State's WIA goals? (§§ 111(a-c), 111(e), and 112(b)(1).)

4. Describe the process your State used to identify your State Board members. How did you select Board members, including business representatives, who have optimum policy-making authority and who represent diverse regions of the State as required under WIA? Describe how the Board's membership enables you to achieve your vision described above. (20 CFR 661.200).)

5. Describe how the Board carries out its functions as required in Section 111(d) and 20 CFR 661.205. Include functions the Board has assumed that are in addition to those required. Identify any functions required in Section 111(d) the Board does not perform and explain why.

6. How will the State Board ensure that the public (including people with disabilities) has access to Board meetings and information regarding State Board activities, including membership and meeting minutes? (20 CFR 661.207).)

7. Identify the circumstances which constitute a conflict of interest for any State or Local Workforce Investment Board member or the entity that s/he represents, and any matter that would provide a financial benefit to that member or his or her immediate family. (§§ 111(f), 112(b)(13), and 117(g).)

8. What resources does the State provide the Board to carry out its functions, i.e., staff, funding, etc.?

(iii) What is the structure/process for the State agencies and State Board to collaborate and communicate with each other and with the local workforce investment system (§ 112(b)(8)(A).):

1. Describe the steps the State will take to improve operational collaboration of the workforce investment activities and other related activities and programs outlined in section 112(b)(8)(A), at both the State and local level (e.g., joint activities, memoranda of understanding, planned mergers, coordinated policies, etc.). How will the State Board and agencies eliminate any existing State-level barriers to coordination? (§§ 111(d)(2) and 112(b)(8)(A).)

2. Describe the lines of communication established by the Governor to ensure open and effective sharing of information among the State agencies responsible for implementing the vision for the workforce system and between the State agencies and the State Workforce Investment Board.

3. Describe the lines of communication and mechanisms established by the Governor to ensure timely and effective sharing of information between the State agencies/State Board and local workforce investment areas and Local Boards. Include types of regularly issued guidance and how Federal guidance is disseminated to Local Boards and One-Stop Career Centers. (§ 112(b)(1).)

(iv) Describe any cross-cutting organizations or bodies at the State level designed to guide and inform an integrated vision for serving youth in the State within the context of workforce investment, social services, juvenile justice, and education. Describe the membership of such bodies and the functions and responsibilities in establishing priorities and services for youth? How is the State promoting a collaborative cross-agency approach for both policy development and service delivery at the local level for youth? (§ 112(b)(18)(A).)

(v) Describe major State policies and requirements that have been established to direct and support the development of a Statewide workforce investment system not described elsewhere in this Plan as outlined below. (§ 112(b)(2).)

1. What State policies and systems are in place or planned to support common data collection and reporting processes, information management, integrated service delivery, and performance management? (§§ 111(d)(2) and 112(b)(8)(B).)

2. What State policies are in place that promote efficient use of administrative resources such as requiring more co-location and fewer affiliate sites in local One-Stop systems to eliminate duplicative facility and operational costs or to require a single administrative structure at the local level to support Local Boards and to be the fiscal agent for WIA funds to avoid duplicative administrative costs that could otherwise be used for service delivery and training? Include any specific administrative cost controls, plans, reductions, and targets for reductions, if the State has established them. (§§ 111(d)(2) and 112(b)(8)(A).)

3. What State policies are in place to promote universal access and consistency of service Statewide? (§ 112(b)(2).)

4. What policies support a demand-driven approach, as described in Part I. “Demand-driven Workforce Investment System,” to workforce development—such as training on the economy and labor market data for Local Board and One-Stop Career Center staff? (§§ 112(b)(4) and 112(b)(17)(A)(iv).)

5. What policies are in place to ensure that the resources available through the Federal and/or State apprenticeship programs, the Job Corps and the Senior Community Service Employment Program are fully integrated with the State's One-Stop delivery system? (§§ 112)(b)(17)(A)(iv) and (b)(18)(C).)

(vi) Local Area Designations—Identify the State's designated local workforce investment areas and the date of the most recent area designation, including whether the State is currently re-designating local areas pursuant to the end of the subsequent designation period for areas designated in the previous Unified Plan. (§§ 112(b)(5).) Include a description of the process used to designate such areas. Describe how the State considered the extent to which such local areas are consistent with labor market areas: geographic areas served by local and intermediate education agencies, post-secondary education institutions and area vocational schools; and all other criteria identified in section 116(a)(1) in establishing area boundaries, to assure coordinated planning. Describe the State Board's role, including all recommendations made on local designation requests pursuant to § 116(a)(4). (§§ 112(b)(5) and 116(a)(1).) Describe the appeals process used by the State to hear appeals of local area designations referred to in § 116(a)(5) and 112(b)(15).

(vii) Local Workforce Investment Boards—Identify the criteria the State has established to be used by the chief elected official(s) in the local areas for the appointment of Local Board members based on the requirements of section 117. (§§ 112(b)(6), 117(b).)

(viii) Identify the circumstances which constitute a conflict of interest for any State or Local Workforce Investment Board member or the entity that s/he represents, and any matter that would provide a financial benefit to that member or his or her immediate family. (§§ 111(f), 112(b)(13), and 117(g).)

(ix) Identify the policies and procedures to be applied by local areas for determining eligibility of local level training providers, how performance information will be used to determine continuing eligibility and the agency responsible for carrying out these activities. Describe how the State solicited recommendations from Local Boards and training providers and interested members of the public, including representatives of business and labor organizations, in the development of these policies and procedures.

(x) Individual Training Accounts (ITAs):

1. What policy direction has the State provided for ITAs?

2. Describe innovative training strategies used by the State to fill skills gaps. Include in the discussion the State's effort to broaden the scope and reach of ITAs through partnerships with business, education, economic development, and industry associations and how business and industry involvement is used to drive this strategy.

3. Discuss the State's plan for committing all or part of WIA Title I funds to training opportunities in high-growth, high-demand, and economically vital occupations.

4. Describe the State's policy for limiting ITAs (e.g., dollar amount or duration).

5. Describe the State's current or planned use of WIA Title I funds for the provision of training through apprenticeship.

6. Identify State policies developed in response to changes to WIA regulations that permit the use of WIA Title I financial assistance to employ or train participants in religious activities when the assistance is provided indirectly) such as through an ITA. (Note that the Department of Labor provides Web access to the equal treatment regulations and other guidance for the workforce investment system and faith-based and community organizations at http://www.dol.gov/cfbci/legalguidance.htm).

(xi) Identify the criteria to be used by Local Boards in awarding grants for youth activities, including criteria that the Governor and Local Boards will use to identify effective and ineffective youth activities and providers of such activities. (§ 112(b)(18)(B).)

(xii) Describe the competitive and non-competitive processes that will be used at the State level to award grants and contracts for activities under title I of WIA, including how potential bidders are being made aware of the availability of grants and contracts. (§ 112(b)(16).)

(c) Vocational Rehabilitation, designate a State agency as the sole State agency to administer the Plan, or to supervise the administration of the Plan by a local agency, in accordance with section 101(a)(2)(A). (§ 101(a)(2)(A).)

(d) TANF, describe the objective criteria for the delivery of benefits and the determination of eligibility and for fair and equitable treatment, including an explanation of how the State will provide opportunities for recipients who have been adversely affected to be heard in a State administrative or appeal process. (§ 402(a)(1)(B)(iii).)

F. Funding

1. What criteria will the State use, subject to each program's authorizing law, to allocate funds for each of the programs included in the Unified Plan? Describe how the State will use funds the State receives to leverage other Federal, State, local, and private resources, in order to maximize the effectiveness of such resources, and to expand the participation of business, employees, and individuals in the Statewide workforce investment system. (WIA § 112(b)(10).) In answering the above question, if your Unified Plan includes:

(a) Perkins III:

(i) Describe the criteria that you will use in approving applications by eligible recipients for funds under Perkins III. (§ 122(c)(1)(B).)

(ii) Describe how funds received through the allotment made under section 111 will be allocated among secondary school vocational and technical education, or postsecondary and adult vocational and technical education, or both, including the rationale for such allocation. (§ 122(c)(4)(A).)

(iii) Describe how funds received through the allotment made under section 111 will be allocated among consortia which will be formed among secondary schools and eligible institutions, and how funds will be allocated among the members of the consortia, including the rationale for such allocation. (§ 122(c)(4)(B).)

(iv) If the eligible agency decides to develop an alternative allocation formula under the authority of sections 131(c) and/or 132(b), submit the proposed formula and supporting documentation to the Secretary of Education for approval prior to the submission of your State Plan or as a part of the State Unified Plan. (§§ 131(c) and 132(b).)

(b) Tech-Prep, describe how the eligible agency will award tech-prep funds in accordance with the requirements of Sections 204(a) and Section 205 of Perkins III, including whether grants will be awarded on a competitive basis or on the basis of a formula determined by the State.

(c) WIA Title I and Wagner-Peyser Act and/or Veterans Programs (§ 112(b)(12):

(i) If applicable, describe the methods and factors (including weights assigned to each factor) your State will use to distribute funds to local areas for the 30% discretionary formula adult employment and training funds and youth funds pursuant to Sections 128(b)(3)(B) and 133(b)(3)(B).

(ii) Describe how the allocation methods and factors help ensure that funds are distributed equitably throughout the State and that there will be no significant shifts in funding levels to a local area on a year-to-year basis.

(iii) Describe the State's allocation formula for dislocated worker funds under 133(b)(2)(B).

(iv) Describe how the individuals and entities on the State Board were involved in the development of the methods and factors, and how the State consulted with chief elected officials in local areas throughout the State in determining such distribution.

(v) Describe the procedures and criteria that are in place under 20 CFR 663.600 for the Governor and appropriate Local Boards to direct One-Stop operators to give priority of service to public assistance recipients and other low-income individuals for intensive and training services if funds allocated to a local area for adult employment and training activities are determined to be limited. (§§ 112(b)(17)(A)(iv) and 134(d)(4)(E).)

(vi) Specify how the State will use the 10 percent Wagner-Peyser Act funds allotted to it under section 7(b) in accordance with the three provisions of allowable activities: performance incentives; services for groups with special needs; and extra costs of exemplary service delivery models. (§ 112(b)(7) and 20 CFR 652.204).)

(d) Adult Education and Family Literacy:

(i) Describe how the eligible agency will fund local activities in accordance with the considerations described in Section 231(e) and the other requirements of title II of WIA. (§ 224(b).)

(ii) Describe the process to show that public notice was given of the availability of Federal funds to eligible recipients and the procedures for submitting applications to the State, including approximate time frames for the notice and receipt of applications. (§ 231(c).)

(iii) Describe how the eligible agency will use funds made available under Section 222(a)(2) for State leadership activities. (§ 223(a).)

(iv) Describe the steps the eligible agency will take to ensure direct and equitable access, as required in section 231(c). (§ 224(b)(12).)

(e) Food Stamp Employment and Training, Estimate the total cost of the State's E&T program and identify the source of funds according to the format for Table 5, Planned Fiscal Year Costs, contained in the most current release of “The Handbook on Preparing State Plans for Food Stamp Employment and Training Programs.”

(f) TANF, indicate the name, address, and EIN number of the TANF administering agency and estimate for each quarter of the fiscal year by percentage the amount of TANF grant that it wishes to receive.

(g) Vocational Rehabilitation:

(i) Describe how the State will utilize funds reserved for the development and implementation of innovative approaches to expand and improve the provision of vocational rehabilitation services to individuals with disabilities under the State Plan, particularly individuals with the most significant disabilities. (§ 101(a)(18)(B).)

(ii) Describe the quality, scope, and extent of supported employment services authorized under the Act to be provided to individuals who are eligible under the Act to receive the services. (§ 625(b)(3).)

(iii) In the event that vocational rehabilitation services cannot be provided to all eligible individuals with disabilities in the State who apply for services, indicate the order to be followed in selecting eligible individuals to be provided vocational rehabilitation services and provide the justification for the order. (§ 101(a)(5)(A)-(B).)

(h) CSBG, describe how the State intends to use discretionary funds made available from the remainder of the grant or allotment described in Section 675C(b), including a description of how the local entity will use the funds to support innovative community and neighborhood-based initiatives.

G. Activities To Be Funded

1. For each of the programs in your Unified Plan, provide a general description of the activities the State will pursue using the relevant funding.

In answering the above question, if your Unified Plan includes:

(a) Perkins III:

(i) Describe the vocational and technical education activities to be assisted that are designed to meet or exceed the State adjusted levels of performance. (§ 122(c)(1).)

(ii) Describe the secondary and postsecondary vocational and technical education programs to be carried out, including programs that will be carried out by the eligible agency to develop, improve, and expand access to quality, state-of-the-art technology in vocational and technical education programs. (§ 122(c)(1)(A).)

(iii) Describe how funds will be used to improve or develop new vocational and technical education courses and effectively link secondary and postsecondary education. (§ 122(c)(1)(D) and 122(c)(19).)

(iv) Describe how the eligible agency will improve the academic and technical skills of students participating in vocational and technical education programs, including strengthening the academic, and vocational and technical, components of vocational and technical education programs through the integration of academics with vocational and technical education to (1) Ensure learning in the core academic, vocational and technical subjects; (2) provide students with strong experience in, and understanding of, all aspects of an industry; and (3) prepare students for opportunities in post-secondary education or entry into high skill and high wage jobs in current and emerging occupations. (§ 122(c)(1)(C) and (5)(A).)

(v) Describe how the eligible agency will ensure that students who participate in such vocational and technical education programs are taught to the same challenging academic proficiencies as are taught to all other students. (§ 122(c)(5)(B).)

(vi) Describe how the eligible agency will actively involve parents, teachers, local businesses (including small- and medium-sized businesses), and labor organizations in the planning, development, implementation and evaluation of vocational and technical education programs.

(b) Tech-Prep, describe how funds will be used in accordance with the requirements of section 204(c).

(c) WIA Title I and Wagner-Peyser Act and/or Veterans Programs:

(i) Service Delivery—Describe the approaches the State will use to provide direction and support to Local Boards and the One-Stop Career Center delivery system on the strategic priorities to guide investments, structure business engagement, and inform service delivery approaches for all customers. (§ 112(b)(17)(A).)

1. One-Stop Service Delivery Strategies: (§ 111(d)(2) and 112(b)(2).)

a. How will the services provided by each of the required and optional One-Stop partners be coordinated and made available through the One-Stop system? (§ 112(b)(8)(A).)

b. How are youth formula programs funded under § 128(b)(2)(A) integrated in the One-Stop system?

c. What minimum service delivery requirements does the State mandate in a comprehensive One-Stop Centers or an affiliate site?

d. What tools and products has the State developed to support service delivery in all One-Stop Centers Statewide?

e. What models/templates/approaches does the State recommend and/or mandate for service delivery in the One-Stop Centers? For example, do all One-Stop Centers have a uniform method of organizing their service delivery to business customers? Is there a common individual assessment process utilized in every One-Stop Center? Are all One-Stop Centers required to have a resource center that is open to anyone?

2. Workforce Information—A fundamental component of a demand-driven workforce investment system is the integration and application of the best available State and local workforce information including, but not limited to, economic data, labor market information, census data, private sources of workforce information produced by trade associations and others, educational data, job vacancy surveys, transactional data from job boards, and information obtained directly from businesses. (§§ 111(d)(8), 112(b)(1), and 134(d)(2)(E).)

a. Describe how the State will integrate workforce information into its planning and decision-making at the State and local level, including State and Local Boards, One-Stop operations, and case manager guidance.

b. Describe the approach the State will use to disseminate accurate and timely workforce information to businesses, job seekers, and employment counselors, in easy to use formats that are readily accessible within One-Stop Career Centers and at remote locations such as libraries, schools, worksites, and at home.

c. Describe how the State's Workforce Information Core Products and Services Plan is aligned with the WIA State Plan to ensure that the investments in core products and services support the State's overall strategic direction for workforce investment.

d. Describe how State workforce information products and tools are coordinated with the national electronic workforce information tools including America's Career Information Network and Career Voyages.

3. Adults and Dislocated Workers

a. Core Services. (§ 112(b)(17)(a)(i).)

(i) Describe State strategies and policies to ensure adults and dislocated workers have universal access to the minimum required core services as described in § 134(d)(2).

(ii) Describe how the State will ensure the three-tiered service delivery strategy for labor exchange services for job seekers and employers authorized by the Wagner-Peyser Act includes (1) self-service, (2) facilitated self-help service, and (3) staff-assisted service, and is accessible and available to all customers at the local level.

(iii) Describe how the State will integrate resources provided under the Wagner-Peyser Act and WIA title I for adults and dislocated workers as well as resources provided by required One-Stop partner programs, to deliver core services.

b. Intensive Services. Describe State strategies and policies to ensure adults and dislocated workers who meet the criteria in § 134(d)(3)(A) receive intensive services as defined.

c. Training Services. Describe the Governor's vision for increasing training access and opportunities for individuals including the investment of WIA title I funds and the leveraging of other funds and resources.

d. Eligible Training Provider List. Describe the State's process for providing broad customer access to the statewide list of eligible training providers and their performance information including at every One-Stop Career Center. (§ 112(b)(17)(A)(iii).)

e. On-the-Job (OJT) and Customized Training (§ 112(b)(17)(A)(i) and 134(b).) Based on the outline below, describe the State's major directions, policies and requirements related to OJT and customized training.

(i) Describe the Governor's vision for increasing training opportunities to individuals through the specific delivery vehicles of OJT and customized training.

(ii) Describe how the State:

(a.) Identifies OJT and customized training opportunities;

(b.) Markets OJT and customized training as incentives to untapped employer pools including new business to the State and employer groups;

(c.) Partners with high-growth, high-demand industries and economically vital industries to develop potential OJT and customized training strategies;

(d.) Taps business partners to help drive the strategy through joint planning, competency and curriculum development; and determining appropriate lengths of training, and

(e.) Leverages other resources through education, economic development and industry associations to support OJT and customized training ventures.

f. What policies and strategies does the State have in place to ensure that, pursuant to the Jobs for Veterans Act (Pub. L. 107-288)(38 U.S.C. 4215), that priority of service is provided to veterans and certain spouses who otherwise meet the eligibility requirements for all employment and training programs funded by the U.S. Department of Labor, in accordance with the provisions of TEGL 5-03 (9/16/03/)?

g. Rapid Response. Describe how your State provides Rapid Response services with the funds reserved under Section 133(a)(2).

(i) Identify the entity responsible for providing Rapid Response services. Describe how Rapid Response activities involve Local Boards and Chief Elected Officials. If Rapid Response activities are shared between the State and local areas, describe the functions of each and how funds are allocated to the local areas.

(ii) Describe the process involved in carrying out Rapid Response activities.

(a.) What methods are involved in receiving notice of impending layoffs (include WARN Act notice as well as other sources)?

(b.) What efforts does the Rapid Response team make to ensure that rapid response services are provided, whenever possible, prior to layoff date, onsite at the company, and on company time?

(c.) What services are included in Rapid Response activities? Does the Rapid Response team provide workshops or other activities in addition to general informational services to affected workers? How do you determine what services will be provided for a particular layoff (including layoffs that may be trade-affected)?

(d.) How does the State ensure a seamless transition between Rapid Response services and One-Stop activities for affected workers?

(e.) Describe how Rapid Response functions as a business service? Include whether Rapid Response partners with economic development agencies to connect employees from companies undergoing layoffs to similar companies that are growing and need skilled workers? How does Rapid Response promote the full range of services available to help companies in all stages of the economic cycle, not just those available during layoffs? How does the State promote Rapid Response as a positive, proactive, business-friendly service, not only a negative, reactive service?

(f.) What other partnerships does Rapid Response engage in to expand the range and quality of services available to companies and affected workers and to develop an effective early layoff warning network?

(g.) What systems does the Rapid Response team use to track its activities? Does the State have a comprehensive, integrated Management Information System that includes Rapid Response, Trade Act programs, National Emergency Grants, and One-Stop activities?

(h.) Are Rapid Response funds used for other activities not described above; e.g., the provision of additional assistance to local areas that experience increased workers or unemployed individuals due to dislocation events?

4. Veterans Programs. For the grant period FY 2005—FY 2009, States submitted a five year strategic plans to operate the Local Veterans' Employment Representative (LVER) and Disabled Veterans' Outreach Programs (DVOP) Specialist programs under the Jobs for Veterans Act. These plans may be incorporated by reference as part of a state's Unified Plan. Modifications to these five year Jobs for Veterans Act plans will be managed in accordance with policy guidance from the Veterans' Employment and Training Service.

5. Youth. ETA's strategic vision identifies youth most in need, such as out of school youth and those at risk, youth in foster care, youth aging out of foster care, youth offenders, children of incarcerated parents, homeless youth, and migrant and seasonal farmworker youth as those most in need of service.

State programs and services should take a comprehensive approach to serving these youth, including basic skills remediation, helping youth stay in or return to school, employment, internships, help with attaining a high school diploma or GED, post-secondary vocational training, apprenticeships and enrollment in community and four-year colleges. (§ 112(b)(18).)

a. Describe your State's strategy for providing comprehensive, integrated services to eligible youth, including those most in need as described above. Include any State requirements and activities to assist youth who have special needs or barriers to employment, including those who are pregnant, parenting, or have disabilities. Include how the State will coordinate across State agencies responsible for workforce investment, foster care, education, human services, juvenile justice, and other relevant resources as part of the strategy. (§ 112(b)(18).)

b. Describe how coordination with Job Corps and other youth programs will occur. (§ 112(b)(18)(C).)

c. How does the State Plan to utilize the funds reserved for Statewide activities to support the State's vision for serving youth? Examples of activities that would be appropriate investments of these funds include:

(i) utilizing the funds to promote cross agency collaboration;

(ii) demonstration of cross-cutting models of service delivery;

(iii) development of new models of alternative education leading to employment; or

(iv) development of demand-driven models with business and industry working collaboratively with the workforce investment system and education partners to develop strategies for bringing these youth successful into the workforce pipeline with the right skills.

d. Describe in general, how your State will meet the Act's provisions regarding youth program design. (§§ 112(b)(18) and 129(c).)

6. Business Services.

a. Describe how the needs of employers will be determined in the local areas and on a statewide basis.

b. Describe how integrated business services, including Wagner-Peyser Act services, will be delivered to employers through the One-Stop system.

c. How will the system streamline administration of Federal tax credit programs within the One-Stop system to maximize employer participation (20 CFR 652.3(b), § 112(b)(17)(A)(i).)

7. Innovative Service Delivery Strategies. (§ 112(b)(17)(A).)

a. Describe innovative service delivery strategies the State has or is planning to undertake to maximize resources, increase service levels, improve service quality, achieve better integration or meet other key State goals. Include in the description the initiative's general design, anticipated outcomes, partners involved and funds leveraged (e.g., title I formula, Statewide reserve, employer contributions, education funds, non-WIA State funds).

b. If your State is participating in the ETA Personal Re-employment Account (PRA) demonstration, describe your vision for integrating PRAs as a service delivery alternative as part of the State's overall strategy for workforce investment.

8. Strategies for Faith-based and Community Organizations (§ 112(b)(17)(i).) Describe those activities to be undertaken to: (1) increase the opportunities for participation of faith-based and community organizations as committed and active partners in the One-Stop delivery system; and (2) expand the access of faith-based and community organizations' clients and customers to the services offered by the One-Stops in the State. Outline those action steps designed to strengthen State collaboration efforts with local workforce investment areas in conducting outreach campaigns to educate faith-based and community organizations about the attributes and objectives of the demand-driven workforce investment system. Indicate how these resources can be strategically and effectively leveraged in the State's workforce investment areas to help meet the objectives of the Workforce Investment Act.

(d) Adult Education and Literacy Services, including workplace literacy services:

(i) Family literacy services.

(ii) English literacy programs.

(e) Food Stamp Employment and Training:

(i) Describe the components of the State's E&T program.

(ii) Discuss the weekly/monthly hours of participation required of each program component.

(iii) Describe planned combinations of components to meet the statutory requirement of 20 hours of participation per week to qualify as a work program for ABAWDS.

(f) TANF, outline how the State intends to:

(i) Conduct a program, designed to serve all political subdivisions in the State (not necessarily in a uniform manner), that provides assistance to needy families with (or expecting) children and provides parents with job preparation, work, and support services to enable them to leave the program and become self-sufficient. (§ 402(a)(1)(A)(i).)

(ii) Require a parent or caretaker receiving assistance under the program to engage in work (as defined by the State) once the State determines the parent or caretaker is ready to engage in work, or once the parent or caretaker has received assistance under the program for 24 months (whether or not consecutive,) whichever is earlier, consistent with section 407(e)(2). (§ 402(a)(1)(A)(ii).)

(iii) Ensure that parents and caretakers receiving assistance under the program engage in work activities in accordance with section 407. (§ 402(a)(1)(A)(iii).)

(iv) Take such reasonable steps as deemed necessary to restrict the use and disclosure of information about individuals and families receiving assistance under the program attributable to funds provided by the Federal government. (§ 402(a)(1)(A)(iv).)

(v) Describe the financial eligibility criteria and corresponding benefits and services covered with State Maintenance of Effort (MOE) funds. This description applies to State MOE funds that are used in the State's TANF program or used to fund a separate State program.

(g) SCSEP, provide a description of each project function or activity and how the State will implement the project. The following activities should be discussed separately: (title V of the Older Americans Act)

(i) Describe how the services proposed support the State Senior Employment Services Coordination Plan.

(ii) Describe how recruitment and selection of participants will be achieved under TEGL 13-04 and the regulations at 20 CFR 641.500 and 641.525. Include a description of the new recruitment strategies that will be used to reach the target population.

(iii) Describe how participant income will be recertified each year, including where eligibility records will be maintained.

(iv) Describe the arrangements that will be made to offer physical examinations as a required fringe benefit.

(v) Describe the orientation procedures for participants and host agencies.

(vi) Describe the procedures for assessing job aptitudes, job readiness, and job preferences of participants and their potential for transition into unsubsidized employment.

(vii) Describe how the assessment will be used to develop the participant's Individual Employment Plan (IEP).

(viii) Describe how the participant will be assigned to community service including: The types of community service activity that will be emphasized and how they were chosen; methods used to match participants with community service training; the extent to which participants will be placed in the administration of the project itself; the types of host agencies used and the procedures and criteria for selecting the assignments; the average number of hours in a participant's training week; the average wage paid during training; the fringe benefits offered (if any); procedures for ensuring adequate supervision.

(ix) Describe the training that will be provided during community service training and any other types of training provided, including linkages with local One-Stop Career Centers, the Registered Apprenticeship Program, and the Disability Program Navigators.

(x) Describe the supportive services that will be offered to help participants obtain and retain an unsubsidized job.

(xi) Describe arrangements that will be made to provide transportation assistance to participants.

(xii) Describe the steps that will be taken to move or place participants into unsubsidized employment, including cooperative measures that will be taken with the One-Stop Delivery System, and that support the Administration's focus on high-growth industries. Any grantee that failed to meet at least 20 percent unsubsidized placements in program year 2004 must submit a corrective action plan.

(xiii) Describe any policy for maximum duration of enrollment or maximum time in community service.

(xiv) Describe procedures for terminating a participant, including Individual Employment Plan terminations and the grievance procedures that will address termination from the program.

(xv) Describe the procedures for addressing and resolving participant complaints.

(xvi) Describe procedures for over enrolling participants, including how over enrollments will be balanced with Equitable Distribution requirements.

(xvii) Describe steps that will be taken to ensure compliance with the Maintenance of Effort provision of section 501(b)(1)(F).

(xviii) Describe payroll procedures and how workers' compensation premiums are paid.

(xix) Describe collaboration efforts with the One-Stop System and with other partner programs under the Workforce Investment Act to maximize opportunities for SCSEP participants.

(xx) Describe efforts to work with local economic development offices in rural locations.

(xxi) Describe current slot imbalances and proposed steps to correct inequities to achieve equitable distribution.

(xxii) List the cities and counties where the project and subprojects will be conducted. Include the number of SCSEP authorized positions and indicate where the positions changed from the prior year.

(xxiii) Describe the organizational structure of the project and how subprojects will be managed, including assurances that adequate resources for administrative costs will be provided. Also describe the training that will be provided to local staff and describe how projects will be monitored for program and financial compliance, including audit plans.

(xxiv) Describe how the State will manage its providers and how it will transfer participants if new providers are selected to serve in the State.

(xxv) Include a proposed level for each performance measure for each of the program years covered by the Plan. While the Plan is under review or through a subsequent modification, the State will negotiate with the Division of Older Worker Programs to set the appropriate levels for the next two years. At a minimum, States must identify the performance indicators required under 20 CFR 641.710, and, for each indicator, the State must develop an objective and quantifiable performance goal for two program years. The performance measures include: placement rate; service level; service to most in need; community service; employment retention; customer satisfaction of employers, participants, and host agencies; and earning increase. The requirements for reporting are outlined in Older Worker Bulletin 04-06 dated September 7, 2004.

(xxvi) Describe any request for an increase in administrative costs consistent with section 502(c)(3) of the Older Americans Act.

(xxvii) Describe plans to provide a copy of this section to Area Agencies on Aging consistent with section 502(d) of the Older American Act.

(h) CSBG, explain how the activities funded will:

(i) Remove obstacles and solve problems that block the achievement of self-sufficiency, including those families and individuals who are attempting to transition off a State program carried out under part A of title IV of the Social Security Act.

(ii) Secure and retain meaningful employment.

(iii) Attain an adequate education, with particular attention toward improving literacy skills of the low-income families in the communities involved, which may include carrying out family literacy initiatives.

(iv) Make better use of available income.

(v) Obtain and maintain adequate housing and a suitable living environment.

(vi) Obtain emergency assistance through loans, grants, or other means to meet immediate and urgent family and individual needs.

(vii) Achieve greater participation in the affairs of the communities involved, including the development of public and private grassroots partnerships with local law enforcement agencies, local housing authorities, private foundation, and other public and private partners.

(viii) Create youth development programs that support the primary role of the family, give priority to the prevention of youth problems and crime, and promote increased community coordination and collaboration in meeting the needs of youth, and support development and expansion of innovative community-based youth development programs that have demonstrated success in preventing or reducing youth crime.

(ix) Provide supplies, services, nutritious foods, and related services, as may be necessary to counteract conditions of starvation and malnutrition among low-income individuals.

H. Coordination and Non-Duplication

1. Describe how your State will coordinate and integrate the services provided through all of the programs identified in the Unified Plan in order to meet the needs of its customers, ensure there is no overlap or duplication among the programs, and ensure collaboration with key partners and continuous improvement of the workforce investment system. (States are encouraged to address several coordination requirements in a single narrative, if possible.)

In answering the above question, if your Unified Plan includes:

(a) Perkins III, describe coordination with the following agencies or programs:

(i) Programs listed in Section 112(b)(8)(A) of the Workforce Investment Act of 1998 (§ 122(c)(21).) concerning the provision of services for postsecondary students and school dropouts.

(ii) Other Federal education programs, including any methods proposed for joint planning and coordination. (§ 122(c)(16).)

(b) WIA Title I and Wagner-Peyser Act and/or Veterans Programs:

(i) Structure/Process for State agencies and State Board to collaborate and communicate with each other and with the local workforce investment system (§ 112(b)(8)(A).)

(a.) Describe the steps the State will take to improve operational collaboration of the workforce investment activities and other related activities and programs outlined in Section 112(b)(8)(A), at both the State and local level (e.g., joint activities, memoranda of understanding, planned mergers, coordinated policies, etc.). How will the State Board and agencies eliminate any existing State-level barriers to coordination? (§§ 111(d)(2) and 112(b)(8)(A).)

(b.) Describe the lines of communication and mechanisms established by the Governor to ensure timely and effective sharing of information between the State agencies/State Board and local workforce investment areas and Local Boards. Include types of regularly issued guidance and how Federal guidance is disseminated to Local Boards and One-Stop Career Centers. (§ 112(b)(1).)

(c.) Describe any cross-cutting organizations or bodies at the State level designed to guide and inform an integrated vision for serving youth in the State within the context of workforce investment, social services, juvenile justice, and education.—Describe the membership of such bodies and the functions and responsibilities in establishing priorities and services for youth? How is the State promoting a collaborative cross-agency approach for both policy development and service delivery at the local level for youth? (§ 112(b)(18)(A).)

(c) Adult Education and Family Literacy, describe how the Adult Education and Family Literacy activities that will be carried out with any funds received under AEFLA will be integrated with other adult education, career development, and employment and training activities in the State or outlying area served by the eligible agency. (§ 224(b)(11).)

(d) Vocational Rehabilitation:

(i) Describe the State agency's plans policies, and procedures for coordination with the following agencies or programs:

(a.) Federal, State and local agencies and programs, including programs carried out by the Under Secretary for Rural Development of the Department of Agriculture and State use contracting programs to the extent that such agencies and programs are not carrying out activities through the statewide workforce investment system. (§ 101(a)(11)(C).)

(b.) Education officials responsible for the public education of students with disabilities, including a formal interagency agreement with the State educational agency. (§ 101(a)(11)(D).)

(c.) Private, non-profit vocational rehabilitation service providers through the establishment of cooperative agreements. (§ 101(a)(24)(B).)

(d.) Other State agencies and appropriate entities to assist in the provision of supported employment services. (§ 625(b)(4).)

(e.) Other public or nonprofit agencies or organizations within the State, employers, natural supports, and other entities with respect to the provision of extended services. (§ 625(b)(5).)

(e) Unemployment Insurance, summarize requests for any Federal partner assistance (primarily non-financial) that would help the SWA attain its goal.

(f) CSBG, describe how the State and eligible entities will coordinate programs to serve low-income residents with other organizations, including:

(i) Religious organizations.

(ii) Charitable groups.

(iii) Community organizations.

I. Special Populations and Other Groups

1. Describe how your State will develop program strategies, to target and serve special populations. States may present information about their service strategies for those special populations that are identified by multiple Federal programs as they deem most appropriate and useful for planning purposes, including by special population or on a program by program basis. In providing this description, if your Unified Plan includes any of the programs listed below, please address the following specific relevant populations:

(a) Perkins III:

(i) Each category of special populations defined in Section 3(23) of the Act. (§ 122(c)(7).)

(ii) Students in alternative education programs, if appropriate. (§ 122(c)(13).)

(iii) Individuals in State correctional institutions. (§ 122(c)(18).)

(i) Describe how funds will be used to promote preparation for nontraditional training and employment. (§ 122(c)(17).)

(ii) Describe how individuals who are members of special populations will be provided with equal access to activities assisted under Title I of Perkins III and will not be discriminated against on the basis of their status as members of special populations. (§ 122(c)(8)(B).)

(b) WIA Title I and Wagner-Peyser Act and/or Veterans Programs (§ 112(b)(17)(A)(iv) and 112(b)(17)(B).):

(i) Service to Specific Populations. (§ 112(b)(17)(A)(iv).)

(a.) Describe the State's strategies to ensure that the full range of employment and training programs and services delivered through the State's One-Stop delivery system are accessible to and will meet the needs of dislocated workers, displaced homemakers, low-income individuals such as migrants and seasonal farmworkers, women, minorities, individuals training for non-traditional employment, veterans, public assistance recipients and individuals with multiple barriers to employment (including older individuals, people with limited English-speaking proficiency, and people with disabilities.) (§ 112(b)(17)(iv).)

(b.) Describe the reemployment services you will provide to unemployment insurance claimants and the Worker Profiling services provided to claimants identified as most likely to exhaust their unemployment insurance benefits in accordance with section 3(c)(3) of the Wagner-Peyser Act.

(c.) Describe how the State administers the unemployment insurance work test and how feedback requirements (under § 7(a)(3)(F) of the Wagner-Peyser Act) for all UI claimants are met.

(d.) Describe the State's strategy for integrating and aligning services to dislocated workers provided through the WIA rapid response, WIA dislocated worker, and Trade Adjustment Assistance (TAA) programs. Does the State have a policy supporting co-enrollment for WIA and TAA? (§ 112(b)(17)(A)(ii and iv).)

(e.) How is the State's workforce investment system working collaboratively with business and industry and the education community to develop strategies to overcome barriers to skill achievement and employment experienced by the populations listed above in section (b)(i)(a.) of this section and to ensure they are being identified as a critical pipeline of workers?

(f.) Describe how the State will ensure that the full array of One-Stop services are available to individuals with disabilities and that the services are fully accessible?

(g.) Describe the role LVER/DVOP staff have in the One-Stop Delivery System? How will the State ensure adherence to the legislative requirements for veterans' staff? How will services under this Plan take into consideration the agreement reached between the Secretary and the State regarding veterans' employment programs? (§§ 112(b)(7), 322, 38 U.S.C. chapter 41 and 20 CFR 1001.120).)

(h.) Department of Labor regulations at 29 CFR part 37, require all recipients of Federal financial assistance from DOL to provide meaningful access to limited English proficient (LEP) persons. Federal financial assistance includes grants, training, equipment usage, donations of surplus property, and other assistance. Sub-recipients are also covered when Federal DOL funds are passed through from one recipient to a sub-recipient. Describe how the State will ensure access to services through the State's One-Stop delivery system by persons with limited English proficiency and how the State will meet the requirements of ETA Training and Employment Guidance Letter (TEGL) 26-02, (May 29, 2003) which provides guidance on methods of complying with the Federal rule.

(i.) Describe the State's strategies to enhance and integrate service delivery through the One-Stop delivery system for migrant and seasonal farm workers and agricultural employers. How will the State ensure that migrant and seasonal farm workers have equal access to employment opportunities through the State's One-Stop delivery system? Include the number of Migrant and Seasonal Farmworkers (MSFWs) the State anticipates reaching annually through outreach to increase their ability to access core, intensive, and training services in the One-Stop Career Center System.

(c) Adult Education and Family Literacy:

(i) Low income students (§ 224(b)(10)(A).)

(ii) Individuals with disabilities (§ 224(b)(10)(B).)

(iii) Single parents and displaced homemakers (§ 224(b)(10)(C).)

(iv) Individuals with multiple barriers to educational enhancement, including individuals with limited English proficiency (§ 224(b)(10)(D).)

(v) Criminal offenders in correctional institutions and other institutionalized individuals (§ 225).)

(d) TAA and NAFTA-TAA, describe how rapid response and basic readjustment services authorized under other Federal laws will be provided to trade-impacted workers.

(e) Vocational Rehabilitation:

(i) Minorities with most significant disabilities. (§ 21(c).)

(f) TANF, indicate whether the State intends to:

(i) Treat families moving into the State from another State differently than other families under the program, and if so, how the State intends to treat such families under the program;

(ii) Provide assistance under the program to individuals who are not citizens of the United States, and if so, shall include an overview of such assistance. (§ 402(a)(1)(B) (i) and (ii).); and

(iii) Outline how the State intends to conduct a program designed to reach State and local law enforcement officials, the education system, and relevant counseling services, that provides education and training on the problem of statutory rape so that teenage pregnancy prevention programs may be expanded in scope to include men. (§ 401(a)(1)(A)(vi).)

(g) SCSEP (§ 3(a)(1).): Indicate how the State will serve individuals age 60 and older as a priority (§ 516(2)), and the following “preference” groups (§ 502(b)(1)(M)):

(i) Minorities.

(ii) Limited English-speakers.

(iii) Indian eligible individuals.

(iv) Individuals with the greatest economic need.

(h) CSBG:

(i) Low-income families.

(ii) Families and individuals receiving assistance under part A of Title IV of the Social Security Act (42 U.S.C. 601 et seq.).

(iii) Homeless families and individuals.

(iv) Migrant or seasonal farmworkers.

(v) Elderly low-income individuals and families.

(vi) Youth in low-income communities.

(i) HUD Employment and Training Programs: (Reminder: the following is a suggestion for incorporating HUD programs into your State's Unified Plan. However, following this guidance will not trigger funding for HUD programs):

(i) Public housing residents

(ii) Homeless and other groups

2. Identify the methods of collecting data and reporting progress on the special populations described in Question 1 of this section.

3. If your Plan includes Perkins III, Tech-Prep, Adult Education and Family Literacy or Vocational Rehabilitation, describe the steps the eligible agency will take to ensure equitable access to, and equitable participation in, projects or activities carried out with the respective funds by addressing the special needs of student, teachers, and other program beneficiaries in order to overcome barriers to equitable participation, including barriers based on gender, race, color, national origin, disability, and age. (§ 427(b) General Education Provisions Act.)

J. Professional Development and System Improvement

1. How will your State develop personnel to achieve the performance indicators for the programs included in your Plan?

In answering the above question, if your Unified Plan includes:

(a) Perkins III:

(i) Describe how comprehensive professional development (including initial teacher preparation) for vocational and technical, academic, guidance, and administrative personnel will be provided. (§ 122(c)(2).)

(ii) Describe how the eligible agency will provide local educational agencies, area vocational and technical education schools, and eligible institutions in the State with technical assistance. (§ 122(c)(14).)

(b) WIA Title I and Wagner-Peyser Act and/or Veterans Programs:

(i) How will your State build the capacity of Local Boards to develop and manage high performing local workforce investment system? (§§ 111(d)(2) and 112(b)(14).)

(ii) Local Planning Process—Describe the State mandated requirements for local workforce areas' strategic planning. What assistance does the State provide to local areas to facilitate this process, (§ 112(b)(2) and 20 CFR 661.350(a)(13)), including:

• What oversight of the local planning process is provided, including receipt and review of Plans and negotiation of performance agreements? and

• How does the local plan approval process ensure that local plans are consistent with State performance goals and State strategic direction?

(iii) Oversight/Monitoring Process—Describe the monitoring and oversight criteria and procedures the State utilizes to move the system toward the State's vision and achieve the goals identified above, such as the use of mystery shoppers, performance agreements. (§ 112(b)(14).)

(c) Vocational Rehabilitation, describe the designated State agency's policies, procedures and activities to establish and maintain a comprehensive system of personnel development designed to ensure an adequate supply of qualified State rehabilitation professional and paraprofessional personnel for the designated State unit pursuant to section 101(a)(7) of the Act. (§ 101(a)(7).)

K. Performance Accountability

Nothing in this guidance shall relieve a State of its responsibilities to comply with the accountability requirements of WIA Title I and II and the Carl D. Perkins Vocational and Technical Education Act of 1998 (Perkins III), including, for example, the requirements to renegotiate performance levels at statutorily defined points in the 5-year Unified Plan cycle. The appropriate Secretary will negotiate adjusted levels of performance with the State for these programs prior to approving the State Plan.

1. What are the State's performance methodologies, indicators and goals in measurable, quantifiable terms for each program included in the Unified Plan and how will each program contribute to achieving these performance goals? (Performance indicators are generally set out by each program's statute.) In answering the above question, if your Unified Plan includes:

(a) Perkins III and Tech-Prep:

(i) Identify and describe the core indicators (§ 113(b)(2)(A)(i-iv).), a State level of performance for each core indicator of performance for the first two program years covered by the State Plan (§ 113(b)(3)(A)(ii).), any additional indicators identified by the eligible agency (§ 113(b)(1)(B).), and a State level of performance for each additional indicator (§ 113(b)(3)(B).)

(ii) Describe how the effectiveness of vocational and technical education programs will be evaluated annually. (§ 122(c)(6).)

(iii) Describe how individuals who are member of special populations will be provided with programs designed to enable the special populations to meet or exceed State adjusted levels of performance, and how it will prepare special populations for further learning and for high skill, high wage careers. (§ 122(c)(8)(C).)

(iv) Describe what steps the eligible agency will take to involve representatives of eligible recipients in the development of the State adjusted levels of performance. (§ 122(c)(9).)

(b) WIA Title I and Wagner-Peyser Act and/or Veterans Programs:

(i) Improved performance and accountability for customer-focused results are central features of WIA. To improve, States need not only systems in place to collect data and track performance, but also systems to analyze the information and modify strategies to improve performance. (See Training and Employment Guidance Letter (TEGL) 15-03, Common Measures Policy, December 10, 2003.) In this section, describe how the State measures the success of its strategies in achieving its goals, and how the State uses this data to continuously improve the system.

(i) Describe the State's performance accountability system, including any State-system measures and the State's performance goals established with local areas. Identify the performance indicators and goals the State has established to track its progress toward meeting its strategic goals and implementing its vision for the workforce investment system. For each of the core indicators, explain how the State worked with Local Boards to determine the level of the performance goals. Include a discussion of how the levels compare with the State's previous outcomes as well as with the State-adjusted levels of performance established for other States (if available), taking into account differences in economic conditions, the characteristics of participants when they entered the program and the services to be provided. Include a description of how the levels will help the State achieve continuous improvement over the two years of the Plan. (§§ 112(b)(3) and 136(b)(3).)

(ii) Describe any targeted applicant groups under WIA title I, the Wagner-Peyser Act or title 38 chapters 41 and 42 (Veterans Employment and Training Programs) that the State tracks. (§§ 111(d)(2), 112(b)(3) and 136(b)(2)(C).)

(iii) Identify any performance outcomes or measures in addition to those prescribed by WIA and what process is the State using to track and report them?

(iv) Describe any actions the Governor and State Board will take to ensure collaboration with key partners and continuous improvement of the Statewide workforce investment system. (§§ 111(d)(2) and 112(b)(1).)

(v) How do the State and Local Boards evaluate performance? What corrective actions (including sanctions and technical assistance) will the State take if performance falls short of expectations? How will the State and Local Boards use the review process to reinforce the strategic direction of the system? (§§ 111(d)(2), 112(b)(1), and 112(b)(3).)

(vi) What steps, has the State taken to prepare for implementation of new reporting requirements against the common performance measures as described in Training and Employment Guidance Letter (TEGL), 15-03, December 10, 2003, Common Measures Policy. Note: See TEGL 18-04 which articulates ETA's plans for future policy guidance on negotiating performance levels and common measures.

(vii) Include a proposed level for each performance measure for each of the program years covered by the Plan. While the Plan is under review, the State will negotiate with the respective ETA Regional Administrator to set the appropriate levels for the next two years. At a minimum, States must identify the performance indicators required under section 136, and, for each indicator, the State must develop an objective and quantifiable performance goal for two program years. States are encouraged to address how the performance goals for local workforce investment areas and training provides will help them attain their Statewide performance goals. (§§ 112(b)(3) and 136).)

(c) Adult Education and Family Literacy:

(i) Include a description of how the eligible agency will evaluate annually the effectiveness of the Adult Education and Family Literacy activities, such as a comprehensive performance accountability system, based on the performance measures in section 212.

(ii) Identify levels of performance for the core indicators of performance described in section 212(b)(2)(A) for the first three program years covered by the Plan (§ 212(b)(3)(A)(ii).), and any additional indicators selected by the eligible agency. (§ 212 (b)(2)(B).)

(iii) Describe how such performance measures will be used to ensure the improvement of Adult Education and Family Literacy activities in the State or outlying area. (§ 224(b)(4).)

(d) Unemployment Insurance:

(i) Submit a Plan to achieve an enhanced goal in service delivery for areas in which performance is not deficient. Goals may be set at a State's own initiative or as the result of negotiations initiated by the Regional Office.

(ii) Identify milestones/intermediate accomplishments that the SWA will use to monitor progress toward the goals.

(e) TANF, outline how the State intends to establish goals and take action to prevent and reduce the incidence of out of wedlock pregnancies, with special emphasis on teenage pregnancies, and establish numerical goals for reducing the illegitimacy ratio of the State for calendar years 1996 through 2005. (§ 402(a)(1)(A)(v).)

(f) SCSEP: Provisions on performance are set forth in section G.1. (g)(xxv) of these instructions.

(g) CSBG:

(i) Describe how the State and all eligible entities in the State will participate in the Results Oriented Management and Accountability System, a performance measure system pursuant to Section 678E(b) of the Act, or an alternative system for measuring performance and results that meets the requirements of that section, and a description of outcome measures to be used to measure eligible entity performance in promoting self-sufficiency, family stability, and community revitalization.

(ii) Describe the standards and procedures that the State will use to monitor activities carried out in furtherance of the Plan and will use to ensure long-term compliance with requirements of the programs involved, including the comprehensive planning requirements. (§ 91.330)

2. Has the State developed any common performance goals applicable to multiple programs? If so, describe the goals and how they were developed.

L. Data Collection

1. What processes does the State have in place to collect and validate data to track performance and hold providers/operators/subgrantees accountable?

In answering the above question, if your Unified Plan includes:

(a) Perkins III and Tech-Prep:

(i) Describe how data will be reported relating to students participating in vocational and technical education in order to adequately measure the progress of the students, including special populations. (§ 122(c)(12).)

(ii) Describe how the data reported to the eligible agency from local educational agencies and eligible institutions under Perkins III and the data you report to the Secretary are complete, accurate, and reliable. (§ 122(c)(20).)

(b) WIA Title I and Wagner-Peyser Act and/or Veterans Programs, describe the State's common data system and reporting processes in place to track progress. Describe what data will be collected from the various One-Stop partners (beyond that required by DOL), use of quarterly wage records (including how your State accesses wage records), and how the Statewide system will have access to the information needed to continuously improve. (§ 112(b)(8)(B).)

(c) Food Stamp Employment & Training, describe how employment and training data will be compiled and where responsibility for employment and training reporting is organizationally located at the State level. Include the department, agency, and telephone number for the person(s) responsible for both financial and non-financial E&T reporting.

2. What common data elements and reporting systems are in place to promote integration of Unified Plan activities?

M. Corrective Action

1. Describe the corrective actions the State will take for each program, as applicable, if performance falls short of expectations.

In answering the above question, if your Unified Plan includes:

(a) Vocational Rehabilitation, include the results of an evaluation of the effectiveness of the vocational rehabilitation program, and a report jointly developed with the State Rehabilitation Council (if the State has a Council) on the progress made in improving effectiveness from the previous year including:

(i) An evaluation of the extent to which program goals were achieved and a description of the strategies that contributed to achieving the goals.

(ii) To the extent the goals were not achieved, a description of the factors that impeded that achievement.

(iii) An assessment of the performance of the State on the standards and indicators established pursuant to section 106 of the Act. (§ 101(a)(15)(E)(i).)

(b) Unemployment Insurance, explain the reasons for the areas in which the State's performance is deficient. If a Corrective Action Plan was in place the previous fiscal year, provide an explanation of why the actions contained in that Plan were not successful in improving performance. Identify steps to improve performance, including an explanation of why the actions now specified will be more successful.

N. Waiver and Work-Flex Requests

1. Will your State be requesting waivers as a part of this Unified Plan?

In answering the above question, the following waiver provisions apply if your Unified Plan includes:

(a) WIA Title I and Wagner-Peyser Act and/or Veterans Programs, States may submit a Workforce Flexibility (Work-Flex) Plan under WIA section 192 and/or a General Statutory Waiver Plan under WIA section 189(i) as part of the WIA Title I Plan. These waiver Plans may also be submitted separately, in which case they must identify related provisions in the State's Title I Plan. State Waiver Plans should be developed in accordance with planning requirements at subpart D of 20 CFR part 661.420 and planning guidelines issued by the Department of Labor.

(b) Vocational Rehabilitation, if a State requests a waiver of the Statewide requirement identified in assurance number 13 for the vocational rehabilitation program in Section III of this unified planning guidance, the request must be made in accordance with the provisions of 34 CFR 361.26(b).

IV. Certifications and Assurances

General Certifications and Assurances

By signing the Unified Plan signature page, you are certifying that:

1. The methods used for joint planning and coordination of the programs and activities included in the Unified Plan included an opportunity for the entities responsible for planning or administering such programs and activities to review and comment on all portions of the Unified Plan. (WIA, § 501(c)(3)(B).)

In addition, if you submit your Unified Plan by posting it on an Internet Web site, you are certifying that:

2. The content of the submitted Plan will not be changed after it is submitted. Plan modifications must be approved by the reviewing State agency. It is the responsibility of the designated agency to circulate the modifications among the other agencies that may be affected by the changes.

In addition, the following certifications and assurances apply to the extent that the programs and activities are included in your State Unified Plan.

3. Nonconstruction Programs. By signing the Unified Plan signature page, you are certifying that:

1. The grantee has filed the Government-wide standard assurances for nonconstruction programs (SF 424). States can print SF 424 from http://ocfo.ed.gov/grntinfo/appforms.htm.

EDGAR Certifications, Nonconstruction Programs, Debarment, Drug-Free Work Place and Lobbying Certifications

You must include the following certifications for each of the State agencies that administer one of these programs: Perkins III, Tech-Prep, Adult Education and Literacy or vocational rehabilitation. A State may satisfy the EDGAR requirement by having all responsible State agency officials sign a single set of EDGAR certifications.

EDGAR Certifications

By signing the Unified Plan signature page, you are certifying that:

1. The Plan is submitted by the State agency that is eligible to submit the Plan. [34 CFR 76.104(a)(1).]

2. The State agency has authority under State law to perform the functions of the State under the program. [34 CFR 76.104(a)(2)]

3. The State legally may carry out each provision of the Plan. [34 CFR 76.104(a)(3)]

4. All provisions of the Plan are consistent with State law. [34 CFR 76.104(a)(4)]

5. A State officer, specified by title in the certification, has authority under State law to receive, hold, and disburse Federal funds made available under the Plan. [34 CFR 76.104(a)(5)]

6. The State officer who submits the Plan, specified by title in the certification, has authority to submit the Plan. [34 CFR 76.104(a)(6)]

7. The agency that submits the Plan has adopted or otherwise formally approved the Plan. [34 CFR 76.104(a)(7)]

8. The Plan is the basis for State operation and administration of the program. [34 CFR 76.104(a)(8)]

9. A copy of the State Plan was submitted into the State Intergovernmental Review Process. [Executive Order 12372].

Debarment, Drug-Free Work Place, and Lobbying

By signing the Unified Plan signature page, you are certifying that:

1. The ED grantee has filed ED 80-0013. This form also applies to AEFLA and RSA. States can print ED 80-0013 from http://ocfo.ed.gov/grntinfo/appforms.htm.

Perkins III

By signing the Unified Plan signature page, the eligible agency is certifying that:

1. The State Plan complies with the requirements of title I of Perkins III and the provisions of the State Plan, including the provision of a financial audit of funds received under this title which may be included as part of an audit of other Federal or State programs. (§ 122(c)(10).)

2. None of the funds expended under title I of Perkins III will be used to acquire equipment (including computer software) in any instance in which such acquisition results in a direct financial benefit to any organization representing the interests of the purchasing entity, the employees of the purchasing entity, or any affiliate of such an organization. (§ 122(c)(11).)

3. Section 501(b)(1) provides that secondary vocational education programs authorized under Perkins III may only be included in a Unified Plan “with the prior approval of the legislature of the State.” Documentation of this approval is submitted with the Unified Plan. State legislative approval may be conferred by a resolution adopted by votes of both houses of your State legislature (unless your State has a unicameral legislature) on any date following July 28, 1998. The resolution need not be freestanding; it may be included as an amendment to other legislation. In either event, the resolution should be specific and refer to the requirements of section 501(b)(1) and must clearly differentiate between secondary and postsecondary vocational education.

WIA Title I/Wagner-Peyser Act/Veterans Programs

By signing the Unified Plan signature page, you are certifying that:

1. The State assures that it will establish, in accordance with section 184 of the Workforce Investment Act, fiscal control and fund accounting procedures that may be necessary to ensure the proper disbursement of, and accounting for, funds paid to the State through the allotments made under sections 127 and 132. (§ 112(b)(11).)

2. The State assures that it will comply with section 184(a)(6), which requires the Governor to, every two years, certify to the Secretary, that—

a. the State has implemented the uniform administrative requirements referred to in section 184(a)(3);

b. the State has annually monitored local areas to ensure compliance with the uniform administrative requirements as required under section 184(a)(4); and

c. the State has taken appropriate action to secure compliance pursuant to section 184(a)(5). (§ 184(a)(6).)

3. The State assures that the adult and youth funds received under the Workforce Investment Act will be distributed equitably throughout the State, and that no local areas will suffer significant shifts in funding from year to year during the period covered by this Plan. (§ 112(b)(12)(B).)

4. The State assures that veterans will be afforded employment and training activities authorized in section 134 of the Workforce Investment Act, and the activities authorized in chapters 41 and 42 of title 38 U.S. Code. The State assures that it will comply with the veterans priority established in the Jobs for Veterans Act. (38 U.S.C. 4215).)

5. The State assures that the Governor shall, once every two years, certify one Local Board for each local area in the State. (§ 117(c)(2).)

6. The State assures that it will comply with the confidentiality requirements of section 136(f)(3).

7. The State assures that no funds received under the Workforce Investment Act will be used to assist, promote, or deter union organizing. (§ 181(b)(7).)

8. The State assures that it will comply with the nondiscrimination provisions of section 188, including an assurance that a Methods of Administration has been developed and implemented. (§ 188.).

9. The State assures that it will collect and maintain data necessary to show compliance with the nondiscrimination provisions of section 188. (§ 185.).

10. The State assures that it will comply with the grant procedures prescribed by the Secretary (pursuant to the authority at section 189(c) of the Act) which are necessary to enter into grant agreements for the allocation and payment of funds under the Act. The procedures and agreements will be provided to the State by the ETA Office of Grants and Contract Management and will specify the required terms and conditions and assurances and certifications, including, but not limited to, the following:

a. General Administrative Requirements:

(i) 29 CFR part 97—Uniform Administrative Requirements for State and Local Governments (as amended by the Act).

(ii) 29 CFR part 96 (as amended by OMB Circular A-133)—Single Audit Act.

(iii) OMB Circular A-87—Cost Principles (as amended by the Act).

b. Assurances and Certifications:

(i) SF 424 B—Assurances for Non-construction Programs.

(ii) 29 CFR part 37 —Nondiscrimination and Equal Opportunity Assurance (and regulation) 29 CFR 37.20.

(iii) CFR part 93—Certification Regarding Lobbying (and regulation).

(iv) 29 CFR part 98—Drug Free Workplace and Debarment and Suspension Certifications (and regulation).

c. Special Clauses/Provisions:

Other special assurances or provisions as may be required under Federal law or policy, including specific appropriations legislation, the Workforce Investment Act, or subsequent Executive or Congressional mandates.

11. The State certifies that the Wagner-Peyser Act Plan, which is part of this document, has been certified by the State Employment Security Administrator.

12. The State certifies that veterans' services provided with Wagner-Peyser Act funds will be in compliance with 38 U.S.C. chapter 41 and 20 CFR part 1001.

13. The State certifies that Wagner-Peyser Act-funded labor exchange activities will be provided by merit-based public employees in accordance with DOL regulations.

14. The State assures that it will comply with the MSFW significant office requirements in accordance with 20 CFR part 653.

15. The State certifies it has developed this Plan in consultation with local elected officials, Local Workforce Boards, the business community, labor organizations and other partners.

16. As a condition to the award of financial assistance from the Department of Labor under title I of WIA, the grant applicant assures that it will comply fully with the nondiscrimination and equal opportunity provisions of the following laws:

a. Section 188 of the Workforce Investment Act of 1998 (WIA), which prohibits discrimination against all individuals in the United States on the basis of race, color, religion, sex, national origin, age, disability, political affiliation or belief, and against beneficiaries on the basis of either citizenship/status as a lawfully admitted immigrant authorized to work in the United States or participation in any WIA title I—financially assisted program or activity;

b. Title VI of the Civil Rights Act of 1964, as amended, which prohibits discrimination on the basis of race, color and national origin; Section 504 of the Rehabilitation Act of 1973, as amended, which prohibits discrimination against qualified individuals with disabilities;

c. The Age Discrimination Act of 1975, as amended, which prohibits discrimination on the basis of age; and

d. Title IX of the Education Amendments of 1972, as amended, which prohibits discrimination on the basis of sex in educational programs.

e. The grant applicant also assures that it will comply with 29 CFR part 37 and all other regulations implementing the laws listed above. This assurance applies to the grant applicant's operation of the WIA Title I-financially assisted program or activity, and to all agreements the grant applicant makes to carry out the WIA Title I-financially assisted program or activity. The grant applicant understands that the United States has the right to seek judicial enforcement of this assurance.

17. The State assures that funds will be spent in accordance with the Workforce Investment Act and the Wagner-Peyser Act and their regulations, written Department of Labor Guidance implementing these laws, and all other applicable Federal and State laws.

Adult Education and Family Literacy

By signing the Unified Plan signature page, you are certifying that:

1. The eligible agency will award not less than one grant to an eligible provider who offers flexible schedules and necessary support services (such as child care and transportation) to enable individuals, including individuals with disabilities, or individuals with other special needs, to participate in Adult Education and Literacy activities, which eligible provider shall attempt to coordinate with support services that are not provided under this subtitle prior to using funds for Adult Education and Literacy activities provided under AEFLA for support services. (§ 224(b)(5).)

2. The funds received under subtitle A of title II of WIA will not be expended for any purpose other than for activities under subtitle A of title II of WIA. (§ 224(b)(6).)

3. The eligible agency will expend the funds under subtitle A of title II of WIA only in a manner consistent with fiscal requirements in section 241. (§ 224(b)(8).)

Food Stamp Employment and Training (FSET)

By signing the Unified Plan signature page, you are certifying that:

1. Federal funds allocated by the Department of Agriculture to the State under section 16(h)(1) of the Food Stamp Act of 1977 (the Act), or provided to the State as reimbursements under Sections 16(h)(2) and 16(h)(3) of the Act will be used only for operating an employment and training program under section 6(d)(4) of the Act.

2. The State will submit to the Food and Nutrition Service (FNS) annual updates to its Employment and Training Plan for the coming fiscal year. The updates are due by August 15 of each year. The annual update must include any changes the State anticipates making in the basic structure or operation of its program. At a minimum, the annual update must contain revisions to Tables 1 (Estimated Participant Levels), 2 (Estimated E&T Placement Levels), 4 (Operating Budget), and 5 (Funding Categories).

3. If significant changes are to be made to its E&T program during the fiscal year, the State will submit to FNS a request to modify its Plan. FNS must approve the modification request before the proposed change is implemented. The State may be liable for costs associated with implementation prior to approval. See “The Handbook on Preparing State Plans for Food Stamp Employment and Training Programs” for additional information.

4. The State will submit a quarterly E&T report, FNS-583. Reports are due no later than 45 days after the end of each Federal fiscal quarter. The information required on the FNS-583 is listed in Exhibit 3 of the “The Handbook on Preparing State Plans for Food Stamp Employment and Training Programs.”

5. The State will submit E&T program financial information on the SF-269, Financial Status Report. It must include claims for the 100 percent Federal grant, 50 percent matched funding, and participant reimbursements. The SF-269 is due 30 days after the end of each Federal fiscal quarter.

6. The State will deliver each component of its E&T program through the One-Stop delivery system, an inter-connected strategy for providing comprehensive labor market and occupational information to job seekers, employers, core services providers, other workforce employment activity providers, and providers of workforce education activities. If the component is not available locally through such a system, the State may use another source.

Vocational Rehabilitation

By signing the Unified Plan signature page, you are certifying that:

1. As a condition for the receipt Federal funds under title I, part B of the Rehabilitation Act for the provision of vocational rehabilitation services, the designated State agency agrees to operate and administer the State Vocational Rehabilitation Services Program in accordance with provisions of this title I State Plan, the Act and all applicable regulations, policies and procedures established by the Secretary. Funds made available under section 111 of the Act are used solely for the provision of vocational rehabilitation services under title I and the administration of the title I State Plan.

2. As a condition of the receipt of Federal funds under title VI, part B of the Act for supported employment services, the designated State agency agrees to operate and administer the State Supported Employment Services Program in accordance with the provisions of the supplement to this State Plan, the Act, and all applicable regulations, policies, and procedures established by the Secretary. Funds made available under title VI, part B are used solely for the provision of supported employment services and the administration of the supplement to the title I State Plan.

3. The designated State agency or designated State unit is authorized to submit this State Plan under title I of the Act and its supplement under title VI, part B of the Act.

4. The State submits only those policies, procedures, or descriptions required under this State Plan and its supplement that have not been previously submitted to and approved by the Commissioner of the Rehabilitation Services Administration. (§ 101(a)(1)(B).)

5. The State submits to the Commissioner at such time and in such manner as the Secretary determines to be appropriate, reports containing annual updates of the information relating to the: comprehensive system of personnel development; assessments, estimates, goals and priorities, and reports of progress; innovation and expansion activities; and requirements under title I, part B or title VI, part B of the Act. (§ 101(a)(23).)

6. The State Plan and its supplement are in effect subject to the submission of such modifications as the State determines to be necessary or as the Commissioner may require based on a change in State policy, a change in Federal law, including regulations, an interpretation of the Act by a Federal court or the highest court of the State, or a finding by the Commissioner of State noncompliance with the requirements of the Act, until the State submits and receives approval of a new State Plan or Plan supplement. (§ 101(a)(1)(C).)

7. The State has an acceptable plan for carrying out part B of title VI of the Act, including the use of funds under that part to supplement funds made available under part B of title I of the Act to pay for the cost of services leading to supported employment. (§ 101(a)(22).)

8. The designated State agency, prior to the adoption of any policies or procedures governing the provision of vocational rehabilitation services under the State Plan and supported employment services under the supplement to the State Plan, including making any amendment to such policies and procedures, conducts public meetings throughout the State after providing adequate notice of the meetings, to provide the public, including individuals with disabilities, an opportunity to comment on the policies or procedures, and actively consults with the Director of the client assistance program, and, as appropriate, Indian tribes, tribal organizations, and Native Hawaiian organizations on the policies or procedures. (§ 101(a)(16)(A).)

9. The designated State agency takes into account, in connection with matters of general policy arising in the administration of the Plan, the views of individuals and groups of individuals who are recipients of vocational rehabilitation services, or in appropriate cases, the individual's representatives; personnel working in programs that provide vocational rehabilitation services to individuals with disabilities; providers of vocational rehabilitation services to individuals with disabilities; the Director of the client assistance program; and the State Rehabilitation Council, if the State has such a Council. (§ 101(a)(16)(B))

10. The designated State agency (or, as appropriate, agencies) is a State agency that is:

a. __ primarily concerned with vocational rehabilitation, or vocational and other rehabilitation, of individuals with disabilities; or

b. __ not primarily concerned with vocational rehabilitation, or vocational and other rehabilitation, of individuals with disabilities, and includes within the State agency a vocational rehabilitation bureau, or division, or other organizational unit that: is primarily concerned with vocational rehabilitation, or vocational and other rehabilitation, of individuals with disabilities, and is responsible for the designated State agency's vocational rehabilitation program; has a full-time director; has a staff, all or substantially all of whom are employed full time on the rehabilitation work of the organizational unit; and is located at an organizational level and has an organizational status within the designated State agency comparable to that of other major organizational units of the designated State agency. (§ 101(a)(2)(B).)

11. The designated State agency (or, as appropriate, agencies):

a. __ is an independent commission that is responsible under State law for operating, or overseeing the operation of, the vocational rehabilitation program in the State; is consumer-controlled by persons who are individuals with physical or mental impairments that substantially limit major life activities; and represent individuals with a broad range of disabilities, unless the designated State unit under the direction of the commission is the State agency for individuals who are blind; includes family members, advocates, or other representatives, of individuals with mental impairments; and undertakes the functions set forth in section 105(c)(4) of the Act; or

b. __ has established a State Rehabilitation Council that meets the criteria set forth in section 105 of the Act and the designated State unit: jointly with the Council develops, agrees to, and reviews annually State goals and priorities, and jointly submits annual reports of progress with the Council, in accordance with the provisions of section 101(a)(15) of the Act; regularly consults with the Council regarding the development, implementation, and revision of State policies and procedures of general applicability pertaining to the provision of vocational rehabilitation services; includes in the State Plan and in any revision to the State Plan, a summary of input provided by the Council, including recommendations from the annual report of the Council described in section 105(c)(5) of the Act, the review and analysis of consumer satisfaction described in section 105(c)(4), and other reports prepared by the Council, and the response of the designated State unit to such input and recommendations, including explanations for rejecting any input or recommendation; and transmits to the Council all Plans, reports, and other information required under this title to be submitted to the Secretary; all policies, and information on all practices and procedures, of general applicability provided to or used by rehabilitation personnel in carrying out this title; and copies of due process hearing decisions issued under this title, which shall be transmitted in such a manner as to ensure that the identity of the participants in the hearings is kept confidential. (§ 101(a)(21).)

12. The State provides for financial participation, or if the State so elects, by the State and local agencies, to provide the amount of the non-Federal share of the cost of carrying out title I, part B of the Act. (§ 101(a)(3).)

13. The Plan is in effect in all political subdivisions of the State, except that in the case of any activity that, in the judgment of the Commissioner, is likely to assist in promoting the vocational rehabilitation of substantially larger numbers of individuals with disabilities or groups of individuals with disabilities, the Commissioner may waive compliance with the requirement that the Plan be in effect in all political subdivisions of the State to the extent and for such period as may be provided in accordance with regulations prescribed by the Commissioner, but only if the non-Federal share of the cost of the vocational rehabilitation services involved is met from funds made available by a local agency (including funds contributed to such agency by a private agency, organization, or individual); and in a case in which earmarked funds are used toward the non-Federal share and such funds are earmarked for particular geographic areas within the State, the earmarked funds may be used in such areas if the State notifies the Commissioner that the State cannot provide the full non-Federal share without such funds. (§ 101(a)(4).)

14. The State agency employs methods of administration found by the Commissioner to be necessary for the proper and efficient administration of the State Plan. (§ 101(a)(6)(A).)

15. The designated State agency and entities carrying out community rehabilitation programs in the State, who are in receipt of assistance under title I of the Act, take affirmative action to employ and advance in employment qualified individuals with disabilities covered under and on the same terms and conditions as set forth in section 503 of the Act. (§ 101(a)(6)(B).)

16. Facilities used in connection with the delivery of services assisted under the State Plan comply with the provisions of the Act entitled “An Act to insure that certain buildings financed with Federal funds are so designed and constructed as to be accessible to the physically handicapped,” approved on August 12, 1968 (commonly known as the “Architectural Barriers Act of 1968”), with section 504 of the Act and with the Americans with Disabilities Act of 1990. (§ 101(a)(6)(C).)

17. If, under special circumstances, the State Plan includes provisions for the construction of facilities for community rehabilitation programs—

a. The Federal share of the cost of construction for the facilities for a fiscal year will not exceed an amount equal to 10 percent of the State's allotment under section 110 for such year;

b. The provisions of section 306 (as in effect on the day before the date of enactment of the Rehabilitation Act Amendments of 1998) shall be applicable to such construction and such provisions shall be deemed to apply to such construction; and

c. There shall be compliance with regulations the Commissioner shall prescribe designed to assure that no State will reduce its efforts in providing other vocational rehabilitation services (other than for the establishment of facilities for community rehabilitation programs) because the Plan includes such provisions for construction. (§ 101(a)(17).)

18. The designated State unit submits, in accordance with section 101(a)(10) of the Act, reports in the form and level of detail and at the time required by the Commissioner regarding applicants for and eligible individuals receiving services under the State Plan and the information submitted in the reports provides a complete count, unless sampling techniques are used, of the applicants and eligible individuals in a manner that permits the greatest possible cross-classification of data and ensures the confidentiality of the identity of each individual. (§ 101(a)(10)(A) and (F).)

19. The designated State agency has the authority to enter into contracts with for-profit organizations for the purpose of providing, as vocational rehabilitation services, on-the-job training and related programs for individuals with disabilities under part A of title VI of the Act, upon the determination by the designated State agency that such for-profit organizations are better qualified to provide such vocational rehabilitation services than non-profit agencies and organizations. (§ 101(a)(24)(A).)

20. The designated State agency has cooperative agreements with other entities that are components of the Statewide workforce investment system of the State in accordance with section 101(a)(11)(A) of the Act and replicates these cooperative agreements at the local level between individual offices of the designated State unit and local entities carrying out activities through the Statewide workforce investment system. (§ 101(a)(11)(A) and (B).)

21. The designated State unit, the Statewide Independent Living Council established under section 705 of the Act, and the independent living centers described in part C of title VII of the Act within the State have developed working relationships and coordinate their activities. (§ 101(a)(11)(E).)

22. If there is a grant recipient in the State that receives funds under part C of the Act, the designated State agency has entered into a formal agreement that meets the requirements of section 101(a)(11)(F) of the Act with each grant recipient. (§ 101(a)(11)(F).)

23. Except as otherwise provided in part C of title I of the Act, the designated State unit provides vocational rehabilitation services to American Indians who are individuals with disabilities residing in the State to the same extent as the designated State agency provides such services to other significant populations of individuals with disabilities residing in the State. (§ 101(a)(13).)

24. No duration of residence requirement is imposed that excludes from services under the Plan any individual who is present in the State. (§ 101(a)(12).)

25. The designated State agency has implemented an information and referral system that is adequate to ensure that individuals with disabilities are provided accurate vocational rehabilitation information and guidance, using appropriate modes of communication, to assist such individuals in preparing for, securing, retaining, or regaining employment, and are appropriately referred to Federal and State programs, including other components of the Statewide workforce investment system in the State. (§ 101(a)(20).)

26. In the event that vocational rehabilitation services cannot be provided to all eligible individuals with disabilities in the State who apply for the services, individuals with the most significant disabilities, in accordance with criteria established by the State for the order of selection, will be selected first for the provision of vocational rehabilitation services and eligible individuals, who do not meet the order of selection criteria, shall have access to services provided through the information and referral system implemented under section 101(a)(20) of the Act. (§ 101(a)(5)(C) and (D).)

27. Applicants and eligible individuals, or, as appropriate, the applicants' representatives or the individuals' representatives, are provided information and support services to assist the applicants and eligible individuals in exercising informed choice throughout the rehabilitation process, consistent with the provisions of section 102(d) of the Act. (§ 101(a)(19).)

28. An individualized plan for employment meeting the requirements of section 102(b) of the Act will be developed and implemented in a timely manner for an individual subsequent to the determination of the eligibility of the individual for services, except that in a State operating under an order of selection, the Plan will be developed and implemented only for individuals meeting the order of selection criteria; services under this Plan will be provided in accordance with the provisions of the individualized plan for employment. (§ 01(a)(9).)

29. Prior to providing any vocational rehabilitation services, except:

a. Assessment for determining eligibility and vocational rehabilitation needs by qualified personnel, including, if appropriate, an assessment by personnel skilled in rehabilitation technology;

b. Counseling and guidance, including information and support services to assist an individual in exercising informed choice consistent with the provisions of section 102(d) of the Act;

c. Referral and other services to secure needed services from other agencies through agreements developed under section 101(a)(11) of the Act, if such services are not available under this State Plan;

d. Job-related services, including job search and placement assistance, job retention services, follow-up services, and follow-along services;

e. Rehabilitation technology, including telecommunications, sensory, and other technological aids and devices; and

f. Post-employment services consisting of the services listed under subparagraphs (a) through (e), to an eligible individual, or to members of the individual's family, the State unit determines whether comparable services and benefits exist under any other program and whether those services and benefits are available to the individual unless the determination of the availability of comparable services and benefits under any other program would interrupt or delay:

Progress of the individual toward achieving the employment outcome identified in the individualized plan for employment;

An immediate job placement; or

Provision of such service to any individual who is determined to be at extreme medical risk, based on medical evidence provided by an appropriate qualified medical professional. (§ 101(a)(8)(A).)

30. The Governor of the State in consultation with the designated State vocational rehabilitation agency and other appropriate agencies ensures that there is an interagency agreement or other mechanism for interagency coordination that meets the requirements of section 101(a)(8)(B)(i)-(iv) of the Act between any appropriate public entity, including the State Medicaid program, public institution of higher education, and a component of the Statewide workforce investment system, and the designated State unit so as to ensure the provision of the vocational rehabilitation services identified in section 103(a) of the Act, other than the services identified as being exempt from the determination of the availability of comparable services and benefits, that are included in the individualized plan for employment of an eligible individual, including the provision of such services during the pendency of any dispute that may arise in the implementation of the interagency agreement or other mechanism for interagency coordination. (§ 101(a)(8)(B).)

31. The State agency conducts an annual review and reevaluation of the status of each individual with a disability served under this State Plan who has achieved an employment outcome either in an extended employment setting in a community rehabilitation program or any other employment under section 14(c) of the Fair Labor Standards Act (29 U.S.C. 214(c)) for 2 years after the achievement of the outcome (and annually thereafter if requested by the individual or, if appropriate, the individual's representative), to determine the interests, priorities, and needs of the individual with respect to competitive employment or training for competitive employment; provides for the input into the review and reevaluation, and a signed acknowledgment that such review and reevaluation have been conducted, by the individual with a disability, or, if appropriate, the individual's representative; and makes maximum efforts, including the identification and provision of vocational rehabilitation services, reasonable accommodations, and other necessary support services, to assist such individuals in engaging in competitive employment. (§ 101(a)(14).)

32. Funds made available under title VI, part B of the Act will only be used to provide supported employment services to individuals who are eligible under this part to receive the services. (§ 625(b)(6)(A).)

33. The comprehensive assessments of individuals with significant disabilities conducted under section 102(b)(1) of the Act and funded under title I will include consideration of supported employment as an appropriate employment outcome. (§ 625(b)(6)(B).)

34. An individualized plan for employment, as required by section 102 of the Act, will be developed and updated using funds under title I in order to specify the supported employment services to be provided; specify the expected extended services needed; and identify the source of extended services, which may include natural supports, or to the extent that it is not possible to identify the source of extended services at the time the individualized plan for employment is developed, a statement describing the basis for concluding that there is a reasonable expectation that such sources will become available. (§ 625(b)(6)(C).)

35. The State will use funds provided under title VI, part B only to supplement, and not supplant, the funds provided under title I, in providing supported employment services specified in the individualized plan for employment. (§ 625(b)(6)(D).)

36. Services provided under an individualized plan for employment will be coordinated with services provided under other individualized plans established under other Federal or State programs. (§ 625(b)(6)(E).)

37. To the extent job skills training is provided, the training will be provided on site. (§ 625(b)(6)(F).)

38. Supported employment services will include placement in an integrated setting for the maximum number of hours possible based on the unique strengths, resources, priorities, concerns, abilities, capabilities, interests, and informed choice of individuals with the most significant disabilities. (§ 625(b)(G).)

39. The State will expend not more than 5 percent of the allotment of the State under title VI, part B for administrative costs of carrying out this part. (§ 625(b)(7).)

40. The supported employment supplement to the title I State Plan contains such other information and be submitted in such manner as the Commissioner of the Rehabilitation Services Administration may require. (§ 625(b)(8).)

Unemployment Insurance

The Governor, by signing the Unified Plan Signature Page, certifies that:

1. The SWA will comply with the following assurances, and that the SWA will institute plans or measures to comply with the following requirements. Because the Signature Page incorporates the assurances by reference into the Unified Plan, States should not include written assurances in their Unified Plan submittal. The assurances are identified and explained in Paragraphs (2)-(11) below.

2. Assurance of Equal Opportunity (EO). As a condition to the award of financial assistance from ETA:

(a) The State assures that it will comply with the nondiscrimination provisions of WIA section 188, and its implementing regulations at 29 CFR part 37, including an assurance that a Method of Administration has been developed and implemented. (§§ 188 and 112(b)(17).);

(b) The State assures that it will collect and maintain data necessary to show compliance with the nondiscrimination provisions of section 188, as provided in the regulations implementing that section (§ 185).)

3. Assurance of Administrative Requirements and Allowable Cost Standards. The SWA will comply with administrative requirements and cost principles applicable to grants and cooperative agreements as specified in 20 CFR part 601 (Administrative Procedure), 29 CFR part 93 (Lobbying Prohibitions), 29 CFR part 96 (Audit Requirements), 29 CFR part 97 (Uniform Administrative Requirements for Grants and Cooperative Agreements to State and Local Governments), and OMB Circular A-87 (Revised), 60 FR 26484 (May 17, 1995), further amended at 62 FR 45934 (August 29, 1997) (Cost Principles for State, Local, and Indian Tribal Governments), and with administrative requirements for debarment and suspension applicable to subgrants or contracts as specified in 29 CFR part 98 (Debarment and Suspension). The cost of State staff travel to regional and national meetings and training sessions is included in the grant funds. It is assured that State staff will attend mandatory meetings and training sessions, or unused funds will be returned.

States that have subawards to organizations covered by audit requirements of OMB Circular A-133 (Revised) (Audit Requirements of Institutions of Higher Education and Other Non-Profits) must (1) ensure that such subrecipients meet the requirements of that circular, as applicable, and (2) resolve audit findings, if any, resulting from such audits, relating to the UI program.

(a) The SWA also assures that it will comply with the following specific administrative requirements.

(i). Administrative Requirements.

Program Income. Program income is defined in 29 CFR 97.25 as gross income received by a grantee or subgrantee directly generated by a grant supported activity, or earned only as a result of the grant agreement during the grant period. States may deduct costs incidental to the generation of UI program income from gross income to determine net UI program income. UI program income may be added to the funds committed to the grant by ETA. The program income must be used only as necessary for the proper and efficient administration of the UI program. Any rental income or user fees obtained from real property or equipment acquired with grant funds from prior awards shall be treated as program income under this grant.

Budget Changes. Except as specified by terms of the specific grant award, ETA, in accordance with the regulations, waives the requirements in 29 CFR 97.30(c)(1)(ii) that States obtain prior written approval for certain types of budget changes.

Real Property Acquired with Reed Act Funds. The requirements for real property acquired with Reed Act or other non-Federal funds and amortized with UI grants are in UIPL 39-97, dated September 12, 1997, and in 29 CFR 97.31 to the extent amortized with UI grants.

Equipment Acquired with Reed Act Funds. The requirements for equipment acquired with Reed Act or other non-Federal funds and amortized with UI grants are in UIPL 39-97, dated September 12, 1997, and in 29 CFR 97.31 to the extent amortized with UI grants.

Real Property, Equipment, and Supplies. Real property, equipment, and supplies acquired under prior awards are transferred to this award and are subject to the relevant regulations at 29 CFR part 97.

For super-microcomputer systems and all associated components which were installed in States for the purpose of Regular Reports, Benefits Accuracy Measurement, and other UI Activities, the requirements of 29 CFR part 97 apply. The National Office reserves the right to transfer title and issue disposition instructions in accordance with paragraph (g) of Federal regulations at 29 CFR 97.32. States also will certify an inventory list of system components which will be distributed annually by ETA.

Standard Form 272, Federal Cash Transactions Report. In accordance with 29 CFR 97.41(c), SESAs are required to submit a separate SF 272 for each sub-account under the Department of Health and Human Services (DHHS) Payment Management System. However, SESAs are exempt from the requirement to submit the SF 272A, Continuation Sheet.

(ii). Exceptions and Expansions to Cost Principles. The following exceptions or expansions to the cost principles of OMB Circular No. A-87 (Revised) are applicable to SESAs:

—Employee Fringe Benefits. As an exception to OMB Circular A-87 (Revised) with respect to personnel benefit costs incurred on behalf of SESA employees who are members of fringe benefit plans which do not meet the requirements of OMB Circular No. A-87 (Revised), Attachment B, item 11, the costs of employer contributions or expenses incurred for SESA fringe benefit plans are allowable, provided that:

For retirement plans, all covered employees joined the plan before October 1, 1983; the plan is authorized by State law; the plan was previously approved by the Secretary; the plan is insured by a private insurance carrier which is licensed to operate this type of plan in the applicable State; and any dividends or similar credits because of participation in the plan are credited against the next premium falling due under the contract.

For all SESA fringe benefit plans other than retirement plans, if the Secretary granted a time extension after October 1, 1983, to the existing approval of such a plan, costs of the plan are allowable until such time as the plan is comparable in cost and benefits to fringe benefit plans available to other similarly employed State employees. At such time as the cost and benefits of an approved fringe benefit plan are equivalent to the cost and benefits of plans available to other similarly employed State employees, the time extension will cease and the cited requirements of OMB Circular A-87 (Revised) will apply. For retirement plans and all other fringe benefit plans covered above, any additional costs resulting from improvements to the plans made after October 1, 1983, are not chargeable to UI grant funds.

—UI Claimant's Court Appeals Costs. To the extent authorized by State law, funds may be expended for reasonable counsel fees and necessary court costs, as fixed by the court, incurred by the claimant on appeals to the courts in the following cases:

Any court appeal from an administrative or judicial decision favorable in whole or in part for the claimant;

Any court appeal by a claimant from a decision which reverses a prior decision in his/her favor;

Any court appeal by a claimant from a decision denying or reducing benefits awarded under a prior administrative or judicial decision;

Any court appeal as a result of which the claimant is awarded benefits;

Any court appeal by a claimant from a decision by a tribunal, board of review, or court which was not unanimous; and

Any court appeal by a claimant where the court finds that a reasonable basis exists for the appeal.

Reed Act. Payment from the SESA's UI grant allocations, made into a State's account in the Unemployment Trust Fund for the purpose of reducing charges against Reed Act funds (Section 903(c)(2) of the Social Security Act, as amended (42 U.S.C. 1103(c)(2)), are allowable costs provided that:

The charges against Reed Act funds were for amounts appropriated, obligated, and expended for the acquisition of automatic data processing installations or for the acquisition or major renovation of State-owned real property (as defined in 29 CFR 97.3); and

With respect to each acquisition or improvement of property, the payments are accounted for as credit against equivalent amounts of Reed Act funds previously withdrawn under the respective appropriation.

Prior Approval of Equipment Purchases. As provided for in OMB Circular No. A-87 (Revised), Attachment B, item 19, the requirement that grant recipients obtain prior approval from the Federal grantor agency for all purchases of equipment (as defined in 29 CFR 97.3) is waived and approval authority is delegated to the SESA Administrator.

4. Assurance of Management Systems, Reporting, and Record Keeping. The SESA assures that:

—Financial systems provide fiscal control and accounting procedures sufficient to permit timely preparation of required reports, and the tracing of funds to a level of expenditure adequate to establish that funds have not been expended improperly (29 CFR 97.20).)

The financial management system and the program information system provide Federally-required reports and records that are uniform in definition, accessible to authorized Federal and State staff, and verifiable for monitoring, reporting, audit, and evaluation purposes.

It will submit reports to ETA as required in instructions issued by ETA and in the format ETA prescribes.

The financial management system provides for methods to insure compliance with the requirements applicable to procurement and grants as specified in 29 CFR part 98 (Debarment and Suspension), and for obtaining the required certifications under 29 CFR 98.510(b) regarding debarment, suspension, ineligibility, and voluntary exclusions for lower tier covered transactions.

5. Assurance of Program Quality. The SESA assures that it will administer the UI program in a manner that ensures proper and efficient administration. “Proper and efficient administration” includes performance measured by ETA through Tier I measures, Tier II measures, program reviews, and the administration of the UI BAM, BTQ measures, and TPS program requirements.

6. Assurance on Use of Unobligated Funds. The SESA assures that non-automation funds will be obligated by December 31 of the following fiscal year, and liquidated (expended) within 90 days thereafter. ETA may extend the liquidation date upon written request. Automation funds must be obligated by the end of the 3rd fiscal year, and liquidated within 90 days thereafter. ETA may extend the liquidation date upon written request. Failure to comply with this assurance may result in disallowed costs from audits or review findings.

7. Assurance of Disaster Recovery Capability. The SESA assures that it will maintain a Disaster Recovery Plan.

8. Assurance of Conformity and Compliance. The SESA assures that the State law will conform to, and its administrative practice will substantially comply with, all Federal UI law requirements, and that it will adhere to DOL directives.

9. Assurance of Participation in UI PERFORMS. The SESA assures that it will participate in the annual UI PERFORMS State Quality Service Planning process by submitting any Corrective Action Plans (CAPs) required under UI PERFORMS as part of the State Quality Service Planning process.

10. Assurance of Financial Reports and Planning Forms. The SESA assures that it will submit financial reports and financial planning forms as required by the Department of Labor to support the annual allocation of administrative grants.

11. Assurance of Prohibition of Lobbying Costs (29 CFR part 93). The SESA assures and certifies that, in accordance with the DOL Appropriations Act, no UI grant funds will be used to pay salaries or expenses related to any activity designed to influence legislation or appropriations pending before the Congress of the United States. (k). Drug-Free Workplace (29 CFR part 98). The SESA assures and certifies that it will comply with the requirements at this part.

Temporary Assistance for Needy Families (TANF)

By signing the Unified Plan signature page, you are certifying that:

1. During the fiscal year, the State will operate a child support enforcement program under the State Plan approved under part D. (§ 402(a)(2).)

2. During the fiscal year, the State will operate a foster care and adoption assistance program under the State Plan approved under part E, and that the State will take such actions as are necessary to ensure that children receiving assistance under such part are eligible for medical assistance under the State Plan under title XIX. (§ 402(a)(3).)

3. Which State agency or agencies will administer and supervise the TANF program for the fiscal year, which shall include assurances that local governments and private sector organizations have been consulted regarding the plan and design of welfare services in the State so that services are provided in a manner appropriate to local populations; and have had at least 45 days to submit comments on the Plan and the design of such services. (§ 402(a)(4).)

4. That, during the fiscal year, the State will provide each member of an Indian tribe, who is domiciled in the State and is not eligible for assistance under a tribal family assistance plan approved under section 412, with equitable access to Federally-funded assistance under the State's TANF program (§ 402(a)(5).)

5. That the State has established and is enforcing standards and procedures to ensure against program fraud and abuse, including standards and procedures concerning nepotism, conflicts of interest among individuals responsible for the administration and supervision of the State program, kickbacks, and the use of political patronage. (§ 402(a)(6).)

6. (Optional) that the State has established and is enforcing standards and procedures to:

Screen and identify individuals receiving assistance under this part with a history of domestic violence while maintaining the confidentiality of such individuals;

Refer such individuals to counseling and supportive services; and

Waive, pursuant to a determination of good cause, other program requirements such as time limits (for so long as necessary) for individuals receiving assistance, residency requirements, child support cooperation requirements, and family cap provisions, in cases where compliance with such requirements would make it more difficult for individuals receiving assistance under this part to escape domestic violence or unfairly penalize such individuals who are or have been victimized by such violence, or individuals who are at risk of further domestic violence. (§ 402(a)(7)(A)(i), (ii), (iii).)

Senior Community Service Employment Program (SCSEP)

By signing this Unified Plan you also certify that the State agrees to meet the requirements of or submit the following documents as applicable, in addition to the general ETA requirements for receipt of Federal funds:

• General Administrative Requirements:

—29 CFR part 97—Uniform Administrative Requirements for State and Local Governments (as amended by the Act).

—29 CFR part 96 (as amended by OMB Circular A-133)—Single Audit Act.

—OMB Circular A-87—Cost Principles (as amended by the Act).

• Assurances and Certifications:

—SF 424—Application for Federal Assistance.

—SF 424A—Budget Information—Non-construction Programs.

—SF 424 B—Assurances for Non-construction Programs.

—Hatch Act Notices must be placed in all work locations.

—Privacy Statement must be provided to all participants.

—ETA-5140—Quarterly Progress Report.

—ETA-8705—Equitable Distribution Report.

By signing the Unified Plan signature page, you are certifying that you will abide by the following special clauses:

• Web site contact information must be updated on a regular basis.

• Attendance is required at any significant training to be held during the program year.

• Any recipient that did not meet the 20 percent performance goal for unsubsidized placements in Program Year 2003 or 2004 must attach a corrective action plan unless the recipient has already achieved this goal in Program Year 2004 at the time of application.

Community Services Block Grant (CSBG)

By signing the Unified Plan signature page, you are certifying that:

1. Funds made available through the grant or allotment will be used—

To support activities that are designed to assist low-income families and individuals, including families and individuals receiving assistance under part A of title IV of the Social Security Act (42 U.S.C. 601 et seq.), homeless families and individuals, migrant or seasonal farmworkers, and elderly low-income individuals and families, and a description of how such activities will enable the families and individuals—

To remove obstacles and solve problems that block the achievement of self-sufficiency (including self-sufficiency for families and individuals who are attempting to transition off a State program carried out under part A of title IV of the Social Security Act); to secure and retain meaningful employment;

To attain an adequate education, with particular attention toward improving literacy skills of the low-income families in the communities involved, which may include carrying out family literacy initiatives;

To make better use of available income;

To obtain and maintain adequate housing and a suitable living environment;

To obtain emergency assistance through loans, grants, or other means to meet immediate and urgent family and individual needs; and to achieve greater participation in the affairs of the communities involved, including the development of public and private grassroots partnerships with local law enforcement agencies, local housing authorities, private foundations, and other public and private partners to—

Document best practices based on successful grassroots intervention in urban areas, to develop methodologies for widespread replication; and strengthen and improve relationships with local law enforcement agencies, which may include participation in activities such as neighborhood or community policing efforts.

2. The needs of youth in low-income communities are being met through youth development programs that support the primary role of the family, give priority to the prevention of youth problems and crime, and promote increased community coordination and collaboration in meeting the needs of youth, and support development and expansion of innovative community-based youth development programs that have demonstrated success in preventing or reducing youth crime, such as—

Programs for the establishment of violence-free zones that would involve youth development and intervention models (such as models involving youth mediation, youth mentoring, life skills training, job creation, and entrepreneurship programs); and

After-school child care programs. There is an effective use of, and to coordinate, other programs related to the purposes of this subtitle (including State welfare reform efforts).

3. There is an effective use of, and to coordinate with, other programs related to the purposes of this subtitle (including State welfare reform efforts).

4. A description is provided on how the State intends to use discretionary funds made available from the remainder of the grant or allotment described in section 675C(b) in accordance with this subtitle, including a description of how the State will support innovative community and neighborhood-based initiatives related to the purposes of this subtitle.

5. Information is provided by eligible entities in the State, containing—

A description of the service delivery system, for services provided or coordinated with funds made available through grants made under Section 675C(a), targeted to low-income individuals and families in communities within the State;

A description of how linkages will be developed to fill identified gaps in the services, through the provision of information, referrals, case management, and follow-up consultations;

A description of how funds made available through grants made under section 675C(a) will be coordinated with other public and private resources; and

A description of how the local entity will use the funds to support innovative community and neighborhood-based initiatives related to the purposes of this subtitle, which may include fatherhood initiatives and other initiatives with the goal of strengthening families and encouraging effective parenting.

6. Eligible entities in the State will provide, on an emergency basis, for the provision of such supplies and services, nutritious foods, and related services, as may be necessary to counteract conditions of starvation and malnutrition among low-income individuals.

7. The State and the eligible entities in the State will coordinate, and establish linkages between, governmental and other social services programs to assure the effective delivery of such services to low-income individuals and to avoid duplication of such services, and a description of how the State and the eligible entities will coordinate the provision of employment and training activities, as defined in section 101 of such Act, in the State and in communities with entities providing activities through Statewide and local workforce investment systems under the Workforce Investment Act of 1998.

8. The State will ensure coordination between antipoverty programs in each community in the State, and ensure, where appropriate, that emergency energy crisis intervention programs under title XXVI (relating to low-income home energy assistance) are conducted in such community.

9. The State will permit and cooperate with Federal investigations undertaken in accordance with section 678D.

10. Any eligible entity in the State that received funding in the previous fiscal year through a community services block grant made under this subtitle will not have its funding terminated under this subtitle, or reduced below the proportional share of funding the entity received in the previous fiscal year unless, after providing notice and an opportunity for a hearing on the record, the State determines that cause exists for such termination or such reduction, subject to review by the Secretary as provided in section 678C(b).

11. The State will require each eligible entity in the State to establish procedures under which a low-income individual, community organization, or religious organization, or representative of low-income individuals that considers its organization, or low-income individuals, to be inadequately represented on the board (or other mechanism) of the eligible entity to petition for adequate representation.

12. The State will require each eligible entity in the State to establish procedures under which a low-income individual, community organization, or religious organization, or representative of low-income individuals that considers its organization, or low-income individuals, to be inadequately represented on the board (or other mechanism) of the eligible entity to petition for adequate representation.

13. The State will secure from each eligible entity in the State, as a condition to receipt of funding by the entity through a community services block grant made under this subtitle for a program, a community action plan (which shall be submitted to the Secretary, at the request of the Secretary, with the State Plan) that includes a community-needs assessment for the community served, which may be coordinated with community-needs assessments conducted for other programs.

14. The State and all eligible entities in the State will participate in the Results Oriented Management and Accountability System, another performance measure system for which the Secretary facilitated development pursuant to Section 678E(b), or an alternative system for measuring performance and results that meets the requirements of that section, and a description of outcome measures to be used to measure eligible entity performance in promoting self-sufficiency, family stability, and community revitalization.

15. The information describing how the State will carry out the assurances is described in this subsection.

Attachment A

ETA Regional Administrators

January 2005

Region 1—Boston/New York

Douglas Small, Regional Administrator, U.S. Department of Labor/ETA, JFK Federal Building, Room E-350, Boston, Massachusetts 02203, (617) 788-0170, FAX: 617-788-0101, Small.Douglas@dol.gov.

Region 2—Philadelphia

Lenita Jacobs-Simmons, Regional Administrator, U.S. Department of Labor/ETA, The Curtis Center, 170 South Independence Mall West, Suite 825 East, Philadelphia, Pennsylvania 19106-3315, (215) 861-5205, FAX: 215-861-5260, Jacobs-simmons.lenita@dol.gov.

Region 3—Atlanta

Helen Parker, Regional Administrator, U.S. Department of Labor/ETA, Atlanta Federal Center Rm. 6M12, 61 Forsyth Street, SW., Atlanta, Georgia 30303, (404) 562-2092, FAX: 404-562-2149, parker.helen@dol.gov.

Region 4—Dallas/Denver

Joseph C. Juarez, Regional Administrator, U.S. Department of Labor/ETA, Federal Building, Rm. 317, 525 Griffin Street, Dallas, Texas 75202, (214) 767-8263, FAX: 214-767-5113, Juarez.joseph@dol.gov.

Region 5—Chicago/Kansas City

Byron Zuidema, Regional Administrator, U.S. Department of Labor/ETA, 230 S. Dearborn Street, Rm. 628, Chicago, Illinois 60604, (312) 596-5400, FAX: 312-596-5401, Zuidema.byron@dol.gov.

Region 6—San Francisco/Seattle

Richard Trigg, Regional Administrator, U.S. Department of Labor/ETA, 71 Stevenson Street, Rm. 830, San Francisco, California 94119-3767, (415) 975-4610. FAX: 415-975-4612, trigg.richard@dol.gov.

Attachment B

1. Unified Plan Activities and Programs Checklist

Under section 501 of the Workforce Investment Act, the following activities or programs may be included in a State's Unified Plan. From the list below, please place a check beside the programs and activities your State or Commonwealth is including in this Unified Plan.

The State Unified Plan shall cover one or more of the following programs and activities:

__Secondary vocational education programs (Perkins III/Secondary). Note that inclusion of this program requires prior approval of State legislature. (Carl D. Perkins Vocational and Technical Education Act of 1998 (20 U.S.C. 2301 et seq.)

__Postsecondary vocational education programs (Perkins III/Postsecondary). Note that for the purposes of what the State Unified Plan shall cover, Perkins III/Secondary and Perkins III/Postsecondary count as one program. (Carl D. Perkins Vocational and Technical Education Act of 1998 (20 U.S.C. 2301 et seq.))

__Activities authorized under title I, Workforce Investment Systems (Workforce Investment Activities for Adults, Dislocated Workers and Youth, or WIA title I, and the Wagner-Peyser Act) (Workforce Investment Act of 1998 (29 U.S.C. 2801 et seq.))

__Activities authorized under title II, Adult Education and Family Literacy (Adult Education and Family Literacy Programs) (Workforce Investment Act of 1998 (20 U.S.C. 9201 et seq.))

The State Unified Plan may cover one or more of the following programs and activities:

__Food Stamp Employment and Training Program, or FSET (7 U.S.C. 2015(d))

__Activities authorized under chapter 2 of title II of the Trade Act of 1974 (Trade Act Programs) (19 U.S.C. 2271 et seq.)

__Programs authorized under part B of title I of the Rehabilitation Act of 1973 (29 U.S.C. 720 et seq.), other than section 112 of such Act (29 U.S.C. 732) (Vocational Rehabilitation)

__Activities authorized under chapters 41 & 42 of title 38, U.S.C., and 20 CFR 1001 and 1005 (Veterans Programs, including Veterans Employment, Disabled Veterans' Outreach Program, and Local Veterans' Employment Representative Program)

__Programs authorized under State unemployment compensation laws (Unemployment Insurance) (in accordance with applicable Federal law which is authorized under title III, title IX and title XII of the Social Security Act and the Federal Unemployment Tax Act)

__Programs authorized under part A of title IV of the Social Security Act (Temporary Assistance for Needy Families (TANF).

__Programs authorized under title V of the Older Americans Act of 1965 (Senior Community Service Employment Program (SCSEP).) (42 U.S.C. 3056 et seq.) Training activities funded by the Department of Housing and Urban Development under the Community Development Block Grants (CDBG) and Public Housing Programs). Note that programs funded by the CDBG and Public Housing programs can only be included in your State Unified Plan if the State is the funds recipient, and approval of the Unified Plan will not trigger funding for these programs.

__Community Development Block Grants

__Public Housing

__Programs authorized under the Community Services Block Grant Act (Community Services Block Grant, or CSBG) (42 U.S.C. 9901 et seq.)

2. Contact Information

Please complete one copy for EACH of the separate activities and programs included in your State Unified Plan.

Program:

State Name for Program/Activity:

Name of Grant Recipient Agency for Program/Activity:

Address:

Telephone Number:

Facsimile Number:

E-mail Address:

Name of State Administrative Agency (if different from the Grant Recipient):

Address:

Telephone Number:

Facsimile Number:

E-mail Address:

Name of Signatory Official:

Address:

Telephone Number:

Facsimile Number:

E-mail Address:

Name of Liaison:

Address:

Telephone Number:

Facsimile Number:

E-mail Address:

3. Plan Signature(s)

Governor (if Applicable)

As the Governor, I certify that for the State/Commonwealth of ____, for those activities and programs included in this Plan that are under my jurisdiction, the agencies and officials designated above under “Contact Information” have been duly designated to represent the State/Commonwealth in the capacities indicated for the programs and activities indicated. I will provide subsequent changes in the designation of officials to the designated program or activity contact as such changes occur.

I further certify that, for those activities and programs included in this Plan that are under my jurisdiction, we will operate the workforce development programs included in this Unified Plan in accordance with this Unified Plan and the assurances described in section III of this Unified Plan.

Typed Name and Signature of Governor

Date

Responsible State Official for Eligible Agency for Vocational Education (if Applicable)

I certify that for the State/Commonwealth of ____, for those activities and programs included in this Plan that are under my jurisdiction, the agencies and officials designated above under “Contact Information” have been duly designated to represent the State/Commonwealth in the capacities indicated for the programs and activities indicated. I will provide subsequent changes in the designation of officials to the designated program or activity contact as such changes occur.

I further certify that, for those activities and programs included in this Plan that are under my jurisdiction, we will operate the programs included in this Unified Plan in accordance with this Unified Plan and the applicable assurances described in section III of this Unified Plan.

Typed Name, Title, and Agency of Responsible State Official for Vocational Education

Signature

Date

Responsible State Official for Eligible Agency for Vocational Rehabilitation (if Applicable)

I certify that for the State/Commonwealth of ____, for those activities and programs included in this Plan that are under my jurisdiction, the agencies and officials designated above under “Contact Information” have been duly designated to represent the State/Commonwealth in the capacities indicated for the programs and activities indicated. I will provide subsequent changes in the designation of officials to the designated program or activity contact as such changes occur.

I further certify that we will operate those activities and programs included in this Unified Plan that are under my jurisdiction in accordance with this Unified Plan and the assurances described in section III of this Unified Plan.

Typed Name, Title, and Agency of Responsible State Official for Vocational Rehabilitation

Signature

Date

Responsible State Official for Eligible Agency for Adult Education (if Applicable)

I certify that for the State/Commonwealth of ____, for those activities and programs included in this Plan that are under my jurisdiction, the agencies and officials designated above under “Contact Information” have been duly designated to represent the State/Commonwealth in the capacities indicated for the programs and activities indicated. I will provide subsequent changes in the designation of officials to the designated program or activity contact as such changes occur.

I further certify that, for those activities and programs included in this Plan that are under my jurisdiction, we will operate the programs included in this Unified Plan in accordance with this Unified Plan and the applicable assurances described in Section III of this Unified Plan.

Typed Name, Title, and Agency of Responsible State Official for Adult Education

Signature

Date

[FR Doc. 05-7175 Filed 4-11-05; 8:45 am]

BILLING CODE 4510-30-P